DEPARTMENT OF HOUSING AND URBAN DEVELOPMENT

[Docket No. FR-5477-N-06]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Juanita Perry, Department of Housing and Urban Development, 451 Seventh Street, SW., Room 7262, Washington, DC 20410; telephone (202) 708-1234; TDD number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD reviewed in 2009 for suitability for use to assist the homeless. The properties were reviewed using information provided to HUD by Federal landholding agencies regarding unutilized and underutilized buildings and real property controlled by such agencies or by GSA regarding its inventory of excess or surplus Federal property.

In accordance with 24 CFR 581.3(b) landholding agencies are required to notify HUD by December 31, 2008, the current availability status and classification of each property controlled by the Agencies that were published by HUD as suitable and available which remain available for application for use by the homeless.

Pursuant to 24 CFR 581.8(d) and (e) HUD is required to publish a list of those properties reported by the Agencies and a list of suitable/unavailable properties including the reasons why they are not available.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047; Army: Ms. Veronica Rines, Department of the Army, Office of the Assistant Chief of Staff for Installation Management, DAIM-ZS, Room 8536, 2511 Jefferson Davis Hwy, Arlington, VA 22202; COE: Mr. Scott Whiteford, Army Corps of Engineers, Real Estate, CEMP-CR, 441 G Street, NW., Washington, DC 20314; (202) 761-5542; GSA: Mr. Gordon Creed, Acting Deputy Assistant Commissioner, General Services Administration, Office of Property Disposal, 18th & F Streets, NW., Washington, DC 20405; (202) 501-0084; Interior: Mr. Michael Wright, Acquisition & Property Management, Department of the Interior, 1849 C Street, NW., Washington, DC 20240; (202) 208-5399; Navy: Mr. Albert Johnson, Director of Real Estate, Department of the Navy, Naval Facilities Engineering Command, Washington Navy Yard, 1330 Patterson Ave., SW., Suite 1000, Washington, DC 20374; (202) 685-9305; Veterans Affairs: Mr. George L. Szwarcman, Acting Director, Real Property, Department of Veterans Affairs, 811 Vermont Avenue, NW., Room 555, Washington, DC 20420; (202) 461-8234; (These are not toll-free numbers).

Dated: February 3, 2011.
Robyn Raysor,
Deputy Director for Special Needs Assistance Program.

TITLE V PROPERTIES REPORTED IN YEAR 2010 WHICH ARE SUITABLE AND AVAILABLE

Alabama

VA

Land

VA Medical Center

Property Number: 97199010053

VAMC

Tuskegee Co: Macon AL 36083

Status: Underutilized

Comments: 40 acres, buffer to VA Medical Center, potential utilities, undeveloped

Alaska

Army

Building

Bldg. 00001

Property Number: 21200340075

Kiana Natl Guard Armory

Kiana AK 99749

Status: Excess

Comments: 1200 sq. ft., butler bldg., needs repair, off-site use only

Bldg. 00001

Property Number: 21200710051

Holy Cross Armory

High Cross AK 99602

Status: Excess

Comments: 1200 sq. ft. armory, off-site use only

Bldg. 136

Property Number: 21200820147

Ft. Richardson

Ft. Richardson AK 99505

Status: Excess

Comments: 2383 sq. ft., most recent use—housing, off-site use only

Arizona

Bldg. S-306

Property Number: 21199420346

Yuma Proving Ground

Yuma Co: Yuma/La Paz AZ 85365-9104

Status: Unutilized

Comments: 4103 sq. ft., 2-story, needs major rehab, off-site use only

Bldg. 503, Yuma Proving Ground

Property Number: 21199520073

Yuma Co: Yuma AZ 85365-9104

Status: Underutilized

Comments: 3789 sq. ft., 2-story, major structural changes required to meet floor loading code requirements, presence of asbestos, off-site use only

Bldg. 43002

Property Number: 21200440066

Fort Huachuca

Cochise AZ 85613-7010

Status: Excess

Comments: 23,152 sq. ft., presence of asbestos/lead paint, most recent use—dining, off-site use only

Bldg. 90551

Property Number: 21200920001

Fort Huachuca

Cochise AZ 85613

Status: Excess

Comments: 1270 sq. ft., most recent use—office, off-site use only

California

Air Force

Facility 1

Property Number: 18200830012

OTHB Radar Site

Tulelake CA 91634

Status: Unutilized

Comments: 7920 sq. ft., most recent use—communications

Facility 2

Property Number: 18200830014

OTHB Radar Site

Tulelake CA 91634

Status: Unutilized

Comments: 900 sq. ft., most recent use—veh maint shop

Facilities 3, 4

Property Number: 18200830015

OTHB Radar Site

Tulelake CA 91634

Status: Unutilized

Comments: 4160 sq. ft. each, most recent use—communications

Facility 1

Property Number: 18200830016

OTHB Radar Site

Christmas Valley CA 97641

Status: Unutilized

Comments: 16,566 sq. ft., most recent use—communications

Facility 2

Property Number: 18200830017

OTHB Radar Site

Christmas Valley CA 97641

Status: Unutilized

Comments: 900 sq. ft., most recent use—veh maint shop

Facility 4

Property Number: 18200830018

OTHB Radar Site

Christmas Valley CA 97641

Status: Unutilized

Comments: 14,190 sq. ft., most recent use—communications

Facility 6

Property Number: 18200830019

OTHB Radar Site

Christmas Valley CA 97641

Status: Unutilized

Comments: 14,190 sq. ft., most recent use—transmitter bldg.

Land

Parcels L1 & L2

Property Number: 18200820034

George AFB

Victorville CA 92394

Status: Excess

Comments: 157 acres/desert, pump-and-treat system, groundwater restrictions, AF access rights, access restrictions, environmental concerns

Army

Building

Bldgs. 18026, 18028

Property Number: 21200130081

Camp Roberts

Monterey CA 93451-5000

Status: Excess

Comments: 2024 sq. ft. sq. ft., concrete, poor condition, off-site use only

Bldg. 00052

Property Number: 21200930002

Moffett Community Housing

Vernon Ave.

Santa Clara CA 94035

Status: Unutilized

Comments: 4530 sq ft., most recent use—mini mart/meeting rooms, off-site use only

COE

4 Bldgs.

Property Number: 31200840001

OTH-B Radar Site

Tulelake CA 91634

Status: Unutilized

Comments: Most recent use—communications/vehicle maint., off-site use only

GSA

Land

Drill Site #3A

Property Number: 54201040004

Ford City CA 93268

Status: Surplus

Comments: 2.07 acres, mineral rights, utility easements

GSA Number: 9-B-CA-1673-AG

Drill Site #4

Property Number: 54201040005

Ford City CA 93268

Status: Surplus

Comments: 2.21 acres, mineral rights, utility easements

GSA Number: 9-B-CA-1673-AB

Drill Site #6

Property Number: 54201040006

Ford City CA 93268

Status: Surplus

Comments: 2.13 acres, mineral rights, utility easements

GSA Number: 9-B-CA-1673-AC

Drill Site #9

Property Number: 54201040007

Ford City CA 93268

Status: Surplus

Comments: 2.07 acres, mineral rights, utility easements

GSA Number: 9-B-CA-1673-AH

Drill Site #20

Property Number: 54201040008

Ford City CA 93268

Status: Surplus

Comments: 2.07 acres, mineral rights, utility easements

GSA Number: 9-B-CA-1673-AD

Drill Site #22

Property Number: 54201040009

Ford City CA 93268

Status: Surplus

Comments: 2.07 acres, mineral rights, utility easements

GSA Number: 9-B-CA-1673-AF

Drill Site #24

Property Number: 54201040010

Ford City CA 93268

Status: Surplus

Comments: 2.06 acres, mineral rights, utility easements

GSA Number: 9-B-CA-1673-AE

Drill Site #26

Property Number: 54201040011

Ford City CA 93268

Status: Surplus

Comments: 2.07 acres, mineral rights, utility easements

GSA Number: 9-B-CA-1673-AA

Colorado

Air Force

Building

7 Bldgs.

Property Number: 18201020002

U.S. Air Force Academy

El Paso CO 80840

Location: 6501, 6502, 6503, 6504, 6505, 6507, and 6508

Status: Unutilized

Comments: 2222 sq. ft. each

Bldg. 6506

Property Number: 18201020019

US Air Force Academy

El Paso CO 80840

Status: Unutilized

Comments: 2222 sq. ft.

Army

Bldg. 00127

Property Number: 21200420179

Pueblo Chemical Depot

Pueblo CO 81006

Status: Unutilized

Comments: 8067 sq. ft., presence of asbestos, most recent use—barracks, off-site use only

Bldg. 01516

Property Number: 21200640116

Fort Carson

El Paso CO 80913

Status: Unutilized

Comments: 723 sq. ft., needs repair, most recent use—storage, off-site use only

VA

Bldg. 2

Property Number: 97200430001

VAMC

2121 North Avenue

Grand Junction Co: Mesa CO 81501

Status: Unutilized

Comments: 3298 sq. ft., needs major rehab, presence of asbestos/lead paint

Bldg. 3

Property Number: 97200430002

VAMC

2121 North Avenue

Grand Junction Co: Mesa CO 81501

Status: Unutilized

Comments: 7275 sq. ft., needs major rehab, presence of asbestos/lead paint

Georgia

Army

Bldg. 322

Property Number: 21199720156

Fort Benning

Ft. Benning Co: Muscogee GA 31905

Status: Unutilized

Comments: 9600 sq. ft., needs rehab, most recent use—admin., off-site use only

Bldg. 2593

Property Number: 21199720167

Fort Benning

Ft. Benning Co: Muscogee GA 31905

Status: Unutilized

Comments: 13644 sq. ft., needs rehab, most recent use—parachute shop, off-site use only

Bldg. 2595

Property Number: 21199720168

Fort Benning

Ft. Benning Co: Muscogee GA 31905

Status: Unutilized

Comments: 3356 sq. ft., needs rehab, most recent use—chapel, off-site use only

Bldg. 4232

Property Number: 21199830291

Fort Benning

null Co: Muscogee GA 31905

Status: Unutilized

Comments: 3720 sq. ft., needs rehab, most recent use—maint. bay, off-site use only

Bldgs. 5974-5978

Property Number: 21199930135

Fort Benning

Ft. Benning Co: Muscogee GA 31905

Status: Unutilized

Comments: 400 sq. ft., most recent use—storage, off-site use only

Bldg. 5993

Property Number: 21199930136

Fort Benning

Ft. Benning Co: Muscogee GA 31905

Status: Unutilized

Comments: 960 sq. ft., most recent use—storage, off-site use only

Bldg. T-1003

Property Number: 21200030085

Fort Stewart

Hinesville Co: Liberty GA 31514

Status: Excess

Comments: 9267 sq. ft., poor condition, most recent use—admin., off-site use only

Bldg. T0130

Property Number: 21200230041

Fort Stewart

Hinesville Co: Liberty GA 31314-5136

Status: Excess

Comments: 10,813 sq. ft., off-site use only

Bldg. T0157

Property Number: 21200230042

Fort Stewart

Hinesville Co: Liberty GA 31314-5136

Status: Excess

Comments: 1440 sq. ft., off-site use only

Bldgs. T291, T292

Property Number: 21200230044

Fort Stewart

Hinesville Co: Liberty GA 31314-5136

Status: Excess

Comments: 5220 sq. ft. each, off-site use only

Bldg. T0295

Property Number: 21200230045

Fort Stewart

Hinesville Co: Liberty GA 31314-5136

Status: Excess

Comments: 5220 sq. ft., off-site use only

Bldg. 4476

Property Number: 21200420034

Fort Benning

Ft. Benning Co: Chattachoochee GA 31905

Status: Excess

Comments: 3148 sq. ft., most recent use—veh. maint. shop, off-site use only

Bldg. 9029

Property Number: 21200420050

Fort Benning

Ft. Benning Co: Chattachoochee GA 31905

Status: Excess

Comments: 7356 sq. ft., most recent use—heat plant bldg., off-site use only

Bldg. T924

Property Number: 21200420194

Fort Stewart

Ft. Stewart Co: Liberty GA 31314

Status: Excess

Comments: 9360 sq. ft., most recent use—warehouse, off-site use only

Bldg. 00924

Property Number: 21200510065

Fort Stewart

Ft. Stewart Co: Liberty GA 31314

Status: Excess

Comments: 9360 sq. ft., most recent use—warehouse, off-site use only

Bldg. 08585

Property Number: 21200530078

Hunter Army Airfield

Savannah Co: Chatham GA 31409

Status: Excess

Comments: 165 sq. ft., most recent use—plant, off-site use only

Bldg. 01150

Property Number: 21200610037

Hunter Army Airfield

Savannah Co: Chatham GA 31409

Status: Excess

Comments: 137 sq. ft., most recent use—flam mat storage, off-site use only

Bldg. 01151

Property Number: 21200610038

Hunter Army Airfield

Savannah Co: Chatham GA 31409

Status: Excess

Comments: 78 sq. ft., most recent use—flam mat storage, off-site use only

Bldg. 01153

Property Number: 21200610039

Hunter Army Airfield

Savannah Co: Chatham GA 31409

Status: Excess

Comments: 211 sq. ft., most recent use—flam mat storage, off-site use only

Bldg. 01530

Property Number: 21200610048

Fort Stewart

Liberty GA 31314

Status: Excess

Comments:

Bldg. 08032

Property Number: 21200610051

Fort Stewart

Liberty GA 31314

Status: Excess

Comments: 2592 sq. ft., needs rehab, most recent use—storage/stable, off-site use only

Bldg. 07783

Property Number: 21200640093

Fort Stewart

Hinesville GA 31314

Status: Excess

Comments: 8640 sq. ft., most recent use—maintenance hangar, off-site use only

Bldg. 08061

Property Number: 21200640094

Fort Stewart

Hinesville GA 31314

Status: Excess

Comments: 1296 sq. ft., most recent use—weather station, off-site use only

Bldg. 00100

Property Number: 21200740052

Hunter Army Airfield

Chatham GA 31409

Status: Excess

Comments: 10893 sq. ft., most recent use—battalion hdqts., off-site use only

Bldg. 00129

Property Number: 21200740053

Hunter Army Airfield

Chatham GA 31409

Status: Excess

Comments: 4815 sq. ft., presence of asbestos, most recent use—religious education facility, off-site use only

Bldg. 00145

Property Number: 21200740054

Hunter Army Airfield

Chatham GA 31409

Status: Excess

Comments: 11590 sq. ft., presence of asbestos, most recent use—post chapel, off-site use only

Bldg. 00811

Property Number: 21200740055

Hunter Army Airfield

Chatham GA 31409

Status: Excess

Comments: 42853 sq. ft., most recent use—co hq bldg, off-site use only

Bldg. 00812

Property Number: 21200740056

Hunter Army Airfield

Chatham GA 31409

Status: Excess

Comments: 1080 sq. ft., most recent use—power plant, off-site use only

Bldg. 00850

Property Number: 21200740057

Hunter Army Airfield

Chatham GA 31409

Status: Excess

Comments: 108,287 sq. ft., presence of asbestos, most recent use—aircraft hangar, off-site use only

Bldg. 00860

Property Number: 21200740058

Hunter Army Airfield

Chatham GA 31409

Status: Excess

Comments: 10679 sq. ft., presence of asbestos, most recent use—maint. hangar, off-site use only

Bldg. 01028

Property Number: 21200740059

Hunter Army Airfield

Chatham GA 31409

Status: Excess

Comments: 870 sq ft., most recent use—storage, off-site use only

Bldg. 00955

Property Number: 21200740060

Fort Stewart

Hinesville GA 31314

Status: Excess

Comments: 120 sq. ft., most recent use—storage, off-site use only

Bldg. 00957

Property Number: 21200740061

Fort Stewart

Hinesville GA 31314

Status: Excess

Comments: 6072 sq. ft., most recent use—recycling facility, off-site use only

Bldg. 00971

Property Number: 21200740062

Fort Stewart

Hinesville GA 31314

Status: Excess

Comments: 4000 sq. ft., most recent use—vehicle maint., off-site use only

Bldg. 01015

Property Number: 21200740063

Fort Stewart

Hinesville GA 31314

Status: Excess

Comments: 7496 sq. ft., most recent use—storage, off-site use only

Bldg. 01209

Property Number: 21200740064

Fort Stewart

Hinesville GA 31314

Status: Excess

Comments: 4786 sq. ft., presence of asbestos, most recent use—vehicle maint., off-site use only

Bldg. 07335

Property Number: 21200740065

Fort Stewart

Hinesville GA 31314

Status: Excess

Comments: 4400 sq. ft., most recent use—chapel, off-site use only

Bldg. 245

Property Number: 21200740178

Fort Benning

Ft. Benning GA 31905

Status: Unutilized

Comments: 1102 sq. ft., most recent use—fld ops, off-site use only

Bldg. 2748

Property Number: 21200740180

Fort Benning

Ft. Benning GA 31905

Status: Unutilized

Comments: 3990 sq. ft., most recent use—office, off-site use only

Bldg. 3866

Property Number: 21200740182

Fort Benning

Ft. Benning GA 31905

Status: Unutilized

Comments: 944 sq. ft., most recent use—office, off-site use only

Bldg. 8682

Property Number: 21200740183

Fort Benning

Ft. Benning GA 31905

Status: Unutilized

Comments: 780 sq. ft., most recent use—admin., off-site use only

Bldg. 10800

Property Number: 21200740184

Fort Benning

Ft. Benning GA 31905

Status: Unutilized

Comments: 16,628 sq. ft., off-site use only

Bldgs. 11302, 11303, 11304

Property Number: 21200740185

Fort Benning

Ft. Benning GA 31905

Status: Unutilized

Comments: Various sq. ft., most recent use—ACS center, off-site use only

Bldg. 0297

Property Number: 21200810045

Ft. Benning

Chattahoochie GA 31905

Status: Excess

Comments: 4839 sq. ft., most recent use—riding stable, off-site use only

Bldg. 3819

Property Number: 21200810046

Ft. Benning

Chattahoochie GA 31905

Status: Excess

Comments: 4241 sq. ft., most recent use—training, off-site use only

Bldg. 10802

Property Number: 21200810047

Ft. Benning

Chattahoochie GA 31905

Status: Excess

Comments: 3182 sq. ft., most recent use—storage, off-site use only

Bldg. 00926

Property Number: 21200840061

Hunter Army Airfield

Savannah GA 31409

Status: Excess

Comments: 1752 sq. ft., most recent use—BN, HQ bldg., off-site use only

Bldg. 01021

Property Number: 21200840062

Hunter Army Airfield

Savannah GA 31409

Status: Excess

Comments: 6855 sq. ft., most recent use—admin., presence of asbestos, off-site use only

Bldg. 07335

Property Number: 21200840063

Fort Stewart

Hinesville GA 31314

Status: Excess

Comments: 4400 sq. ft., most recent use—chapel, off-site use only

Bldg. 07778

Property Number: 21200840064

Fort Stewart

Hinesville GA 31314

Status: Excess

Comments: 1189 sq. ft., most recent use—admin., off-site use only

7 Bldgs.

Property Number: 21200840065

Fort Stewart

Hinesville GA 31314

Location: 12601, 12602, 12603, 12605, 12606, 12607, 12609

Status: Excess

Comments: 2953 sq. ft. each, presence of asbestos, most recent use—barracks, off-site use only

9 Bldgs.

Property Number: 21200840066

Fort Stewart

Hinesville GA 31314

Location: 12610, 12611, 12612, 12613, 12614, 12615, 12616, 12617, 12618

Status: Excess

Comments: 2953 sq. ft., presence of asbestos, most recent use—barracks, off-site use only

Bldg. 12619

Property Number: 21200840067

Fort Stewart

Hinesville GA 31314

Status: Excess

Comments: 3099 sq. ft., presence of asbestos, most recent use—barracks, off-site use only

Bldg. 12682

Property Number: 21200840068

Fort Stewart

Hinesville GA 31314

Status: Excess

Comments: 120 sq. ft., presence of asbestos, most recent use—fuel/POL bldg., off-site use only

Hawaii

Air Force

Bldg. 849

Property Number: 18200330008

Bellows AFS

Bellows AFS HI

Status: Unutilized

Comments: 462 sq. ft., concrete storage facility, off-site use only

Army

P-88

Property Number: 21199030324

Aliamanu Military Reservation

Honolulu Co: Honolulu HI 96818

Location:

Approximately 600 feet from Main Gate on Aliamanu Drive.

Status: Unutilized

Comments: 45,216 sq. ft. underground tunnel complex, pres. of asbestos clean-up required of contamination, use of respirator required by those entering property, use limitations

Illinois

Bldg. AR112

Property Number: 21200110081

Sheridan Reserve

Arlington Heights IL 60052-2475

Status: Unutilized

Comments: 1000 sq. ft., off-site use only

Bldgs. 634, 639

Property Number: 21200740186

Fort Sheridan

Ft. Sheridan IL 60037

Status: Unutilized

Comments: 3731/3706 sq. ft., most recent use—classroom/storage, off-site use only

Indiana

VA

Bldg. 105, VAMC

Property Number: 97199230006

East 38th Street

Marion Co: Grant IN 46952

Status: Excess

Comments: 310 sq. ft., 1 story stone structure, no sanitary or heating facilities, Natl Register of Historic Places

Bldg. 10

Property Number: 97199810002

VA Northern Indiana Health Care System

Marion Campus, 1700 East 38th Street

Marion Co: Grant IN 46953

Status: Underutilized

Comments: 16,361 sq. ft., presence of asbestos, most recent use—psychiatric ward, National Register of Historic Places

Bldg. 11

Property Number: 97199810003

VA Northern Indiana Health Care System

Marion Campus, 1700 East 38th Street

Marion Co: Grant IN 46953

Status: Underutilized

Comments: 16,361 sq. ft., presence of asbestos, most recent use—psychiatric ward, National Register of Historic Places

Bldg. 18

Property Number: 97199810004

VA Northern Indiana Health Care System

Marion Campus, 1700 East 38th Street

Marion Co: Grant IN 46953

Status: Underutilized

Comments: 13,802 sq. ft., presence of asbestos, most recent use—psychiatric ward, National Register of Historic Places

Bldg. 25

Property Number: 97199810005

VA Northern Indiana Health Care System

Marion Campus, 1700 East 38th Street

Marion Co: Grant IN 46953

Status: Unutilized

Comments: 32,892 sq. ft., presence of asbestos, most recent use—psychiatric ward, National Register of Historic Places

Bldg. 1

Property Number: 97200310001

N. Indiana Health Care System

Marion Co: Grant IN 46952

Status: Unutilized

Comments: 20,287 sq. ft., needs extensive repairs, presence of asbestos, most recent use—patient ward

Bldg. 3

Property Number: 97200310002

N. Indiana Health Care System

Marion Co: Grant IN 46952

Status: Unutilized

Comments: 20,550 sq. ft., needs extensive repairs, presence of asbestos, most recent use—patient ward

Bldg. 4

Property Number: 97200310003

N. Indiana Health Care System

Marion Co: Grant IN 46952

Status: Unutilized

Comments: 20,550 sq .ft., needs extensive repairs, presence of asbestos, most recent use—patient ward

Bldg. 13

Property Number: 97200310004

N. Indiana Health Care System

Marion Co: Grant IN 46952

Status: Unutilized

Comments: 8971 sq. ft., needs extensive repairs, presence of asbestos, most recent use—office

Bldg. 42

Property Number: 97200310007

N. Indiana Health Care System

Marion Co: Grant IN 46952

Status: Unutilized

Comments: 5025 sq. ft., needs extensive repairs, presence of asbestos, most recent use—office

Bldg. 60

Property Number: 97200310008

N. Indiana Health Care System

Marion Co: Grant IN 46952

Status: Unutilized

Comments: 18,126 sq. ft., needs extensive repairs, presence of asbestos, most recent use—office

Bldg. 122

Property Number: 97200310009

N. Indiana Health Care System

Marion Co: Grant IN 46952

Status: Unutilized

Comments: 37,135 sq. ft., needs extensive repairs, presence of asbestos, most recent use—dining hall/kitchen

Iowa

Army

Bldg. 00691

Property Number: 21200510073

Iowa Army Ammo Plant

Middletown Co: Des Moines IA 52638

Status: Unutilized

Comments: 2581 sq. ft. residence, presence of lead paint, possible asbestos

Bldg. 00691

Property Number: 21200520113

Iowa Army Ammo Plant

Middletown Co: Des Moines IA 52638

Status: Unutilized

Comments: 2581 sq. ft., presence of asbestos/lead paint, most recent use—residential

VA

Land

40.66 acres

Property Number: 97199740002

VA Medical Center

1515 West Pleasant St.

Knoxville Co: Marion IA 50138

Status: Unutilized

Comments: Golf course, easement requirements

Kansas

Army

Building

Bldgs. 7224, 7227, 7612, 7618

Property Number: 21200930010

Fort Riley

Geary KS 66442

Status: Unutilized

Comments: 52,027/41,892 sq. ft., concrete block, most recent use—residential, off-site use only

Kentucky

COE

Green River Lock #3

Property Number: 31199010022

Rochester Co: Butler KY 42273

Location: SR 70 west from Morgantown, KY., approximately 7 miles to site.

Status: Unutilized

Comments: 980 sq. ft.; 2 story wood frame; two story residence; potential utilities; needs major rehab

Land

Tract 2625

Property Number: 31199010025

Barkley Lake, Kentucky, and Tennessee

Cadiz Co: Trigg KY 42211

Location: Adjoining the village of Rockcastle

Status: Excess

Comments: 2.57 acres; rolling and wooded

Tract 2709-10 and 2710-2

Property Number: 31199010026

Barkley Lake, Kentucky and Tennessee

Cadiz Co: Trigg KY 42211

Location: 2½ miles in a southerly direction from the village of Rockcastle

Status: Excess

Comments: 2.00 acres; steep and wooded

Tract 2708-1 and 2709-1

Property Number: 31199010027

Barkley Lake, Kentucky and Tennessee

Cadiz Co: Trigg KY 42211

Location: 2½ miles in a southerly direction from the village of Rockcastle

Status: Excess

Comments: 3.59 acres; rolling and wooded; no utilities

Tract 2800

Property Number: 31199010028

Barkley Lake, Kentucky and Tennessee

Cadiz Co: Trigg KY 42211

Location: 4½ miles in a southeasterly direction from the village of Rockcastle

Status: Excess

Comments: 5.44 acres; steep and wooded

Tract 2915

Property Number: 31199010029

Barkley Lake, Kentucky and Tennessee

Cadiz Co: Trigg KY 42211

Location: 6½ miles west of Cadiz

Status: Excess

Comments: 5.76 acres; steep and wooded; no utilities

Tract 2702

Property Number: 31199010031

Barkley Lake, Kentucky and Tennessee

Cadiz Co: Trigg KY 42211

Location: 1 mile in a southerly direction from the village of Rockcastle

Status: Excess

Comments: 4.90 acres; wooded; no utilities

Tract 4318

Property Number: 31199010032

Barkley Lake, Kentucky and Tennessee

Canton Co: Trigg KY 42212

Location: Trigg Co. adjoining the city of Canton, KY. on the waters of Hopson Creek

Status: Excess

Comments: 8.24 acres; steep and wooded

Tract 4502

Property Number: 31199010033

Barkley Lake, Kentucky and Tennessee

Canton Co: Trigg KY 42212

Location: 3½ miles in a southerly direction from Canton, KY

Status: Excess

Comments: 4.26 acres; steep and wooded

Tract 4611

Property Number: 31199010034

Barkley Lake, Kentucky and Tennessee

Canton Co: Trigg KY 42212

Location: 5 miles south of Canton, KY

Status: Excess

Comments: 10.51 acres; steep and wooded; no utilities

Tract 4619

Property Number: 31199010035

Barkley Lake, Kentucky and Tennessee

Canton Co: Trigg KY 42212

Location: 4 ½ miles south from Canton, KY

Status: Excess

Comments: 2.02 acres; steep and wooded; no utilities

Tract 4817

Property Number: 31199010036

Barkley Lake, Kentucky and Tennessee

Canton Co: Trigg KY 42212

Location: 6½ miles south of Canton, KY

Status: Excess

Comments: 1.75 acres; wooded

Tract 1217

Property Number: 31199010042

Barkley Lake, Kentucky and Tennessee

Eddyville Co: Lyon KY 42030

Location: On the north side of the Illinois Central Railroad

Status: Excess

Comments: 5.80 acres; steep and wooded

Tract 1906

Property Number: 31199010044

Barkley Lake, Kentucky and Tennessee

Eddyville Co: Lyon KY 42030

Location: Approximately 4 miles east of Eddyville, KY

Status: Excess

Comments: 25.86 acres; rolling steep and partially wooded; no utilities

Tract 1907

Property Number: 31199010045

Barkley Lake, Kentucky and Tennessee

Eddyville Co: Lyon KY 42038

Location: On the waters of Pilfen Creek, 4 miles east of Eddyville, KY

Status: Excess

Comments: 8.71 acres; rolling steep and wooded; no utilities

Tract 2001 #1

Property Number: 31199010046

Barkley Lake, Kentucky and Tennessee

Eddyville Co: Lyon KY 42030

Location: Approximately 4½ miles east of Eddyville, KY

Status: Excess

Comments: 47.42 acres; steep and wooded; no utilities

Tract 2001 #2

Property Number: 31199010047

Barkley Lake, Kentucky and Tennessee

Eddyville Co: Lyon KY 42030

Location: Approximately 4½ miles east of Eddyville, KY

Status: Excess

Comments: 8.64 acres; steep and wooded; no utilities

Tract 2005

Property Number: 31199010048

Barkley Lake, Kentucky and Tennessee

Eddyville Co: Lyon KY 42030

Location: Approximately 5½ miles east of Eddyville, KY

Status: Excess

Comments: 4.62 acres; steep and wooded; no utilities

Tract 2307

Property Number: 31199010049

Barkley Lake, Kentucky and Tennessee

Eddyville Co: Lyon KY 42030

Location: Approximately 7½ miles southeasterly of Eddyville, KY

Status: Excess

Comments: 11.43 acres; steep; rolling and wooded; no utilities

Tract 2403

Property Number: 31199010050

Barkley Lake, Kentucky and Tennessee

Eddyville Co: Lyon KY 42030

Location: 7 miles southeasterly of Eddyville, KY

Status: Excess

Comments: 1.56 acres; steep and wooded; no utilities

Tract 2504

Property Number: 31199010051

Barkley Lake, Kentucky and Tennessee

Eddyville Co: Lyon KY 42030

Location: 9 miles southeasterly of Eddyville, KY

Status: Excess

Comments: 24.46 acres; steep and wooded; no utilities

Tract 214

Property Number: 31199010052

Barkley Lake, Kentucky and Tennessee

Grand Rivers Co: Lyon KY 42045

Location: South of the Illinois Central Railroad, 1 mile east of the Cumberland River

Status: Excess

Comments: 5.5 acres; wooded; no utilities

Tract 215

Property Number: 31199010053

Barkley Lake, Kentucky and Tennessee

Grand Rivers Co: Lyon KY 42045

Location: 5 miles southwest of Kuttawa

Status: Excess

Comments: 1.40 acres; wooded; no utilities

Tract 241

Property Number: 31199010054

Barkley Lake, Kentucky and Tennessee

Grand Rivers Co: Lyon KY 42045

Location: Old Henson Ferry Road, 6 miles west of Kuttawa, KY

Status: Excess

Comments: 1.26 acres; steep and wooded; no utilities

Tracts 306, 311, 315 and 325

Property Number: 31199010055

Barkley Lake, Kentucky and Tennessee

Grand Rivers Co: Lyon KY 42045

Location: 2.5 miles southwest of Kuttawa, KY. on the waters of Cypress Creek

Status: Excess

Comments: 38.77 acres; steep and wooded; no utilities

Tracts 2305, 2306, and 2400-1

Property Number: 31199010056

Barkley Lake, Kentucky and Tennessee

Eddyville Co: Lyon KY 42030

Location: 6½ miles southeasterly of Eddyville, KY

Status: Excess

Comments: 97.66 acres; steep rolling and wooded; no utilities

Tracts 5203 and 5204

Property Number: 31199010058

Barkley Lake, Kentucky and Tennessee

Linton Co: Trigg KY 42212

Location: Village of Linton, KY state highway 1254

Status: Excess

Comments: 0.93 acres; rolling, partially wooded; no utilities

Tract 5240

Property Number: 31199010059

Barkley Lake, Kentucky and Tennessee

Linton Co: Trigg KY 42212

Location: 1 mile northwest of Linton, KY

Status: Excess

Comments: 2.26 acres; steep and wooded; no utilities.

Tract 4628

Property Number: 31199011621

Barkley Lake, Kentucky and Tennessee

Canton Co: Trigg KY 42212

Location: 4½ miles south from Canton, KY

Status: Excess

Comments: 3.71 acres; steep and wooded; subject to utility easements

Tract 4619-B

Property Number: 31199011622

Barkley Lake, Kentucky and Tennessee

Canton Co: Trigg KY 42212

Location: 4½ miles south from Canton, KY

Status: Excess

Comments: 1.73 acres; steep and wooded; subject to utility easements

Tract 2403-B

Property Number: 31199011623

Barkley Lake, Kentucky and Tennessee

Eddyville Co: Lyon KY 42038

Location: 7 miles southeasterly from Eddyville, KY

Status: Unutilized

Comments: 0.70 acres, wooded; subject to utility easements

Tract 241-B

Property Number: 31199011624

Barkley Lake, Kentucky and Tennessee

Grand Rivers Co: Lyon KY 42045

Location: South of Old Henson Ferry Road, 6 miles west of Kuttawa, KY

Status: Excess

Comments: 11.16 acres; steep and wooded; subject to utility easements

Tracts 212 and 237

Property Number: 31199011625

Barkley Lake, Kentucky and Tennessee

Grand Rivers Co: Lyon KY 42045

Location: Old Henson Ferry Road, 6 miles west of Kuttawa, KY

Status: Excess

Comments: 2.44 acres; steep and wooded; subject to utility easements

Tract 215-B

Property Number: 31199011626

Barkley Lake, Kentucky and Tennessee

Grand Rivers Co: Lyon KY 42045

Location: 5 miles southwest of Kuttawa

Status: Excess

Comments: 1.00 acres; wooded; subject to utility easements

Tract 233

Property Number: 31199011627

Barkley Lake, Kentucky and Tennessee

Grand Rivers Co: Lyon KY 42045

Location: 5 miles southwest of Kuttawa

Status: Excess

Comments: 1.00 acres; wooded; subject to utility easements

Tract N-819

Property Number: 31199140009

Dale Hollow Lake Project

Illwill Creek, Hwy 90

Hobart Co: Clinton KY 42601

Status: Underutilized

Comments: 91 acres, most recent use—hunting, subject to existing easements

Louisiana

Army

Building

Bldg. 8423, Fort Polk

Property Number: 21199640528

Ft. Polk Co: Vernon Parish LA 71459

Status: Underutilized

Comments: 4172 sq. ft., most recent use—barracks

Bldg. T7125

Property Number: 21200540088

Fort Polk

Ft. Polk LA 71459

Status: Unutilized

Comments: 1875 sq. ft., off-site use only

Bldgs. T7163, T8043

Property Number: 21200540089

Fort Polk

Ft. Polk LA 71459

Status: Unutilized

Comments: 4073/1923 sq. ft., off-site use only

Maine

Air Force

Bldgs 1, 2, 3, 4

Property Number: 18200840009

OTH-B Radar Site

Columbia Falls ME

Status: Unutilized

Comments: various sq. ft., most recent use—storage/office

Maryland

Army

Bldg. 0459B

Property Number: 21200120106

Aberdeen Proving Ground

Aberdeen Co: Harford MD 21005-5001

Status: Unutilized

Comments: 225 sq. ft., poor condition, most recent use—equipment bldg., off-site use only

Bldg. 00785

Property Number: 21200120107

Aberdeen Proving Ground

Aberdeen Co: Harford MD 21005-5001

Status: Unutilized

Comments: 160 sq. ft., poor condition, most recent use—shelter, off-site use only

Bldg. E5239

Property Number: 21200120113

Aberdeen Proving Ground

Aberdeen Co: Harford MD 21005-5001

Status: Unutilized

Comments: 230 sq. ft., most recent use—storage, off-site use only

Bldg. E5317

Property Number: 21200120114

Aberdeen Proving Ground

Aberdeen Co: Harford MD 21005-5001

Status: Unutilized

Comments: 3158 sq. ft., presence of asbestos/lead paint, most recent use—lab, off-site use only

Bldg. E5637

Property Number: 21200120115

Aberdeen Proving Ground

Aberdeen Co: Harford MD 21005-5001

Status: Unutilized

Comments: 312 sq. ft., presence of asbestos/lead paint, most recent use—lab, off-site use only

Bldg. 219

Property Number: 21200140078

Ft. George G. Meade

Ft. Meade Co: Anne Arundel MD 20755

Status: Unutilized

Comments: 8142 sq. ft., presence of asbestos/lead paint, most recent use—admin., off-site use only

Bldg. 294

Property Number: 21200140081

Ft. George G. Meade

Ft. Meade Co: Anne Arundel MD 20755

Status: Unutilized

Comments: 3148 sq. ft., presence of asbestos/lead paint, most recent use—entomology facility, offsite use only

Bldg. 1007

Property Number: 21200140085

Ft. George G. Meade

Ft. Meade Co: Anne Arundel MD 20755

Status: Unutilized

Comments: 3108 sq. ft., presence of asbestos/lead paint, most recent use—storage, off-site use only

Bldg. 2214

Property Number: 21200230054

Fort George G. Meade

Fort Meade Co: Anne Arundel MD 20755

Status: Unutilized

Comments: 7740 sq. ft., needs rehab, possible asbestos/lead paint, most recent use—storage, offsite use only

Bldg. 00375

Property Number: 21200320107

Aberdeen Proving Grounds

Aberdeen Co: Harford MD 21005

Status: Unutilized

Comments: 64 sq. ft., most recent use—storage, off-site use only

Bldg. 0385A

Property Number: 21200320110

Aberdeen Proving Grounds

Aberdeen Co: Harford MD 21005

Status: Unutilized

Comments: 944 sq. ft., off-site use only

Bldg. 00523

Property Number: 21200320113

Aberdeen Proving Grounds

Aberdeen Co: Harford MD 21005

Status: Unutilized

Comments: 3897 sq. ft., most recent use—paint shop, off-site use only

Bldg. 0700B

Property Number: 21200320121

Aberdeen Proving Grounds

Aberdeen Co: Harford MD 21005

Status: Unutilized

Comments: 505 sq. ft., off-site use only

Bldg. 01113

Property Number: 21200320128

Aberdeen Proving Grounds

Aberdeen Co: Harford MD 21005

Status: Unutilized

Comments: 1012 sq. ft., off-site use only

Bldgs. 01124, 01132

Property Number: 21200320129

Aberdeen Proving Grounds

Aberdeen Co: Harford MD 21005

Status: Unutilized

Comments: 740/2448 sq. ft., most recent use—lab, off-site use only

Bldg. 03558

Property Number: 21200320133

Aberdeen Proving Grounds

Aberdeen Co: Harford MD 21005

Status: Unutilized

Comments: 18,000 sq. ft., most recent use—storage, off-site use only

Bldg. 05262

Property Number: 21200320136

Aberdeen Proving Grounds

Aberdeen Co: Harford MD 21005

Status: Unutilized

Comments: 864 sq. ft., most recent use—storage, off-site use only

Bldg. 05608

Property Number: 21200320137

Aberdeen Proving Grounds

Aberdeen Co: Harford MD 21005

Status: Unutilized

Comments: 1100 sq. ft., most recent use—maint bldg., off-site use only

Bldg. E5645

Property Number: 21200320150

Aberdeen Proving Grounds

Aberdeen Co: Harford MD 21005

Status: Unutilized

Comments: 548 sq. ft., most recent use—storage, off-site use only

Bldg. 00435

Property Number: 21200330111

Aberdeen Proving Grounds

Aberdeen Co: Harford MD 21005

Status: Unutilized

Comments: 1191 sq. ft., needs rehab, most recent use—storage, off-site use only

Bldg. 0449A

Property Number: 21200330112

Aberdeen Proving Grounds

Aberdeen Co: Harford MD 21005

Status: Unutilized

Comments: 143 sq. ft., needs rehab, most recent use—substation switch bldg., off-site use only

Bldg. 0460

Property Number: 21200330114

Aberdeen Proving Grounds

Aberdeen Co: Harford MD 21005

Status: Unutilized

Comments: 1800 sq. ft., needs rehab, most recent use—electrical EQ bldg., off-site use only

Bldg. 00914

Property Number: 21200330118

Aberdeen Proving Grounds

Aberdeen Co: Harford MD 21005

Status: Unutilized

Comments: Needs rehab, most recent use—safety shelter, off-site use only

Bldg. 00915

Property Number: 21200330119

Aberdeen Proving Grounds

Aberdeen Co: Harford MD 21005

Status: Unutilized

Comments: 247 sq. ft., needs rehab, most recent use—storage, off-site use only

Bldg. 01189

Property Number: 21200330126

Aberdeen Proving Grounds

Aberdeen Co: Harford MD 21005

Status: Unutilized

Comments: 800 sq. ft., needs rehab, most recent use—range bldg., off-site use only

Bldg. E1413

Property Number: 21200330127

Aberdeen Proving Grounds

Aberdeen Co: Harford MD 21005

Status: Unutilized

Comments: Needs rehab, most recent use—observation tower, off-site use only

Bldg. E3175

Property Number: 21200330134

Aberdeen Proving Grounds

Aberdeen Co: Harford MD 21005

Status: Unutilized

Comments: 1296 sq. ft., needs rehab, most recent use—hazard bldg., off-site use only

4 Bldgs.

Property Number: 21200330135

Aberdeen Proving Grounds

Aberdeen Co: Harford MD 21005

Location: E3224, E3228, E3230, E3232, E3234

Status: Unutilized

Comments: sq. ft. varies, needs rehab, most recent use—lab test bldgs., off-site use only

Bldg. E3241

Property Number: 21200330136

Aberdeen Proving Grounds

Aberdeen Co: Harford MD 21005

Status: Unutilized

Comments: 592 sq. ft., needs rehab, most recent use—medical res bldg., off-site use only

Bldg. E3300

Property Number: 21200330139

Aberdeen Proving Grounds

Aberdeen Co: Harford MD 21005

Status: Unutilized

Comments: 44,352 sq. ft., needs rehab, most recent use—chemistry lab, off-site use only

Bldg. E3335

Property Number: 21200330144

Aberdeen Proving Grounds

Aberdeen Co: Harford MD 21005

Status: Unutilized

Comments: 400 sq. ft., needs rehab, most recent use—storage, off-site use only

Bldgs. E3360, E3362, E3464

Property Number: 21200330145

Aberdeen Proving Grounds

Aberdeen Co: Harford MD 21005

Status: Unutilized

Comments: 3588/236 sq. ft., needs rehab, most recent use—storage, off-site use only

Bldg. E3542

Property Number: 21200330148

Aberdeen Proving Grounds

Aberdeen Co: Harford MD 21005

Status: Unutilized

Comments: 1146 sq. ft., needs rehab, most recent use—lab test bldg., off-site use only

Bldg. E4420

Property Number: 21200330151

Aberdeen Proving Grounds

Aberdeen Co: Harford MD 21005

Status: Unutilized

Comments: 14,997 sq. ft., needs rehab, most recent use—police bldg., off-site use only

4 Bldgs.

Property Number: 21200330154

Aberdeen Proving Grounds

Aberdeen Co: Harford MD 21005

Location: E5005, E5049, E5050, E5051

Status: Unutilized

Comments: sq. ft. varies, needs rehab, most recent use—storage, off-site use only

Bldg. E5068

Property Number: 21200330155

Aberdeen Proving Grounds

Aberdeen Co: Harford MD 21005

Status: Unutilized

Comments: 1200 sq. ft., needs rehab, most recent use—fire station, off-site use only

Bldgs. 05448, 05449

Property Number: 21200330161

Aberdeen Proving Grounds

Aberdeen Co: Harford MD 21005

Status: Unutilized

Comments: 6431 sq. ft., needs rehab, most recent use—enlisted UHP, off-site use only

Bldg. 05450

Property Number: 21200330162

Aberdeen Proving Grounds

Aberdeen Co: Harford MD 21005

Status: Unutilized

Comments: 2730 sq. ft., needs rehab, most recent use—admin., off-site use only

Bldgs. 05451, 05455

Property Number: 21200330163

Aberdeen Proving Grounds

Aberdeen Co: Harford MD 21005

Status: Unutilized

Comments: 2730/6431 sq. ft., needs rehab, most recent use—storage, off-site use only

Bldg. 05453

Property Number: 21200330164

Aberdeen Proving Grounds

Aberdeen Co: Harford MD 21005

Status: Unutilized

Comments: 6431 sq. ft., needs rehab, most recent use—admin., off-site use only

Bldg. E5609

Property Number: 21200330167

Aberdeen Proving Grounds

Aberdeen Co: Harford MD 21005

Status: Unutilized

Comments: 2053 sq. ft., needs rehab, most recent use—storage, off-site use only

Bldg. E5611

Property Number: 21200330168

Aberdeen Proving Grounds

Aberdeen Co: Harford MD 21005

Status: Unutilized

Comments: 11,242 sq. ft., needs rehab, most recent use—hazard bldg., off-site use only

Bldg. E5634

Property Number: 21200330169

Aberdeen Proving Grounds

Aberdeen Co: Harford MD 21005

Status: Unutilized

Comments: 200 sq. ft., needs rehab, most recent use—flammable storage, off-site use only

Bldg. E5654

Property Number: 21200330171

Aberdeen Proving Grounds

Aberdeen Co: Harford MD 21005

Status: Unutilized

Comments: 21,532 sq. ft., needs rehab, most recent use—storage, off-site use only

Bldg. E5942

Property Number: 21200330176

Aberdeen Proving Grounds

Aberdeen Co: Harford MD 21005

Status: Unutilized

Comments: 2147 sq. ft., needs rehab, most recent use—igloo storage, off-site use only

Bldgs. E5952, E5953

Property Number: 21200330177

Aberdeen Proving Grounds

Aberdeen Co: Harford MD 21005

Status: Unutilized

Comments: 100/24 sq. ft., needs rehab, most recent use—compressed air bldg., off-site use only

Bldgs. E7401, E7402

Property Number: 21200330178

Aberdeen Proving Grounds

Aberdeen Co: Harford MD 21005

Status: Unutilized

Comments: 256/440 sq. ft., needs rehab, most recent use—storage, off-site use only

Bldg. E7407, E7408

Property Number: 21200330179

Aberdeen Proving Grounds

Aberdeen Co: Harford MD 21005

Status: Unutilized

Comments: 1078/762 sq. ft., needs rehab, most recent use—decon facility, off-site use only

Bldg. 3070A

Property Number: 21200420055

Aberdeen Proving Ground

Harford MD 21005

Status: Unutilized

Comments: 2299 sq. ft., most recent use—heat plant, off-site use only

Bldg. E5026 P

Property Number: 21200420056

Aberdeen Proving Ground

Harford MD 21005

Status: Unutilized

Comments: 20,536 sq. ft., most recent use—storage, off-site use only

Bldg. 05261

Property Number: 21200420057

Aberdeen Proving Ground

Harford MD 21005

Status: Unutilized

Comments: 10067 sq. ft., most recent use—maintenance, off-site use only

Bldg. E5876

Property Number: 21200440073

Aberdeen Proving Grounds

Aberdeen Co: Harford MD 21005

Status: Unutilized

Comments: 1192 sq. ft., needs rehab, most recent use—storage, off-site use only

Bldg. 00688

Property Number: 21200530080

Aberdeen Proving Ground

Aberdeen Co: Harford MD 21005

Status: Unutilized

Comments: 24,192 sq. ft., most recent use—ammo, off-site use only

Bldg. 04925

Property Number: 21200540091

Aberdeen Proving Ground

Aberdeen Co: Harford MD 21005

Status: Unutilized

Comments: 1326 sq. ft., off-site use only

Bldg. 00255

Property Number: 21200720052

Aberdeen Proving Ground

Harford MD 21005

Status: Unutilized

Comments: 64 sq. ft., most recent use—storage, off-site use only

Bldg. 00638

Property Number: 21200720053

Aberdeen Proving Ground

Harford MD 21005

Status: Unutilized

Comments: 4295 sq. ft., most recent use—storage, off-site use only

Bldg. 00721

Property Number: 21200720054

Aberdeen Proving Ground

Harford MD

Status: Unutilized

Comments: 135 sq. ft., most recent use—storage, off-site use only

Bldgs. 00936, 00937

Property Number: 21200720055

Aberdeen Proving Ground

Harford MD 21005

Status: Unutilized

Comments: 2000 sq. ft., most recent use—storage, off-site use only

Bldgs. E1410, E1434

Property Number: 21200720056

Aberdeen Proving Ground

Harford MD 21005

Status: Unutilized

Comments: 2276/3106 sq. ft., most recent use—laboratory, off-site use only

Bldg. 03240

Property Number: 21200720057

Aberdeen Proving Ground

Harford MD 21005

Status: Unutilized

Comments: 10,049 sq. ft., most recent use—office, off-site use only

Bldg. E3834

Property Number: 21200720058

Aberdeen Proving Ground

Harford MD 21005

Status: Unutilized

Comments: 72 sq. ft., most recent use—office, off-site use only

Bldgs. E4465, E4470, E4480

Property Number: 21200720059

Aberdeen Proving Ground

Harford MD 21005

Status: Unutilized

Comments: 17658/16876/17655 sq. ft., most recent use—office, off-site use only

Bldgs. E5137, 05219

Property Number: 21200720060

Aberdeen Proving Ground

Harford MD 21005

Status: Unutilized

Comments: 3700/8175 sq. ft., most recent use—office, off-site use only

Bldg. E5236

Property Number: 21200720061

Aberdeen Proving Ground

Harford MD 21005

Status: Unutilized

Comments: 10,325 sq. ft., most recent use—storage, off-site use only

Bldg. E5282

Property Number: 21200720062

Aberdeen Proving Ground

Harford MD 21005

Status: Unutilized

Comments: 4820 sq. ft., most recent use—hazard bldg., off-site use only

Bldgs. E5736, E5846, E5926

Property Number: 21200720063

Aberdeen Proving Ground

Harford MD 21005

Status: Unutilized

Comments: 1069/4171/11279 sq. ft., most recent use—storage, off-site use only

Bldg. E6890

Property Number: 21200720064

Aberdeen Proving Ground

Harford MD 21005

Status: Unutilized

Comments: 1 sq. ft., most recent use—impact area, off-site use only

Bldg. 00310

Property Number: 21200820077

Aberdeen Proving Ground

Harford MD 21005

Status: Unutilized

Comments: 56516 sq. ft., most recent use—admin., off-site use only

Bldg. 00315

Property Number: 21200820078

Aberdeen Proving Ground

Harford MD

Status: Unutilized

Comments: 74396 sq. ft., most recent use—mach shop, off-site use only

Bldg. 00338

Property Number: 21200820079

Aberdeen Proving Ground

Harford MD

Status: Unutilized

Comments: 45443 sq. ft., most recent use—gnd tran eqp, off-site use only

Bldg. 00360

Property Number: 21200820080

Aberdeen Proving Ground

Harford MD

Status: Unutilized

Comments: 15287 sq. ft., most recent use—general inst., off-site use only

Bldg. 00445

Property Number: 21200820081

Aberdeen Proving Ground

Harford MD

Status: Unutilized

Comments: 6367 sq. ft., most recent use—lab, off-site use only

Bldg. 00851

Property Number: 21200820082

Aberdeen Proving Ground

Harford MD

Status: Unutilized

Comments: 694 sq. ft., most recent use—range bldg., off-site use only

E1043

Property Number: 21200820083

Aberdeen Proving Ground

Harford MD

Status: Unutilized

Comments: 5200 sq. ft., most recent use—lab, off-site use only

Bldg. 01089

Property Number: 21200820084

Aberdeen Proving Ground

Harford MD

Status: Unutilized

Comments: 12369 sq. ft., most recent use—veh maint, off-site use only

Bldg. 01091

Property Number: 21200820085

Aberdeen Proving Ground

Harford MD

Status: Unutilized

Comments: 2201 sq. ft., most recent use—storage, off-site use only

Bldg. E1386

Property Number: 21200820086

Aberdeen Proving Ground

Harford MD

Status: Unutilized

Comments: 251 sq. ft., most recent use—eng/mnt, off-site use only

5 Bldgs.

Property Number: 21200820087

Aberdeen Proving Ground

Harford MD

Location: E1440, E1441, E1443, E1445, E1455

Status: Unutilized

Comments: 112 sq. ft., most recent use—safety shelter, off-site use only

Bldg. E1467, E1485

Property Number: 21200820088

Aberdeen Proving Ground

Harford MD

Status: Unutilized

Comments: 160/800 sq. ft., most recent use—storage, off-site use only

Bldg. E1521

Property Number: 21200820090

Aberdeen Proving Ground

Harford MD

Status: Unutilized

Comments: 1200 sq. ft., most recent use—overhead protection, off-site use only

Bldg. E1570

Property Number: 21200820091

Aberdeen Proving Ground

Harford MD

Status: Unutilized

Comments: 47027 sq. ft., most recent use—office, off-site use only

Bldg. E1572

Property Number: 21200820092

Aberdeen Proving Ground

Harford MD

Status: Unutilized

Comments: 1402 sq. ft., most recent use—maint., off-site use only

4 Bldgs.

Property Number: 21200820093

Aberdeen Proving Ground

Harford MD

Location: E1645, E1675, E1677, E1930

Status: Unutilized

Comments: Various sq. ft., most recent use—office, off-site use only

Bldg.. E2160, E2184, E2196

Property Number: 21200820094

Aberdeen Proving Ground

Harford MD

Status: Unutilized

Comments: 12440/13816 sq. ft., most recent use—storage, off-site use only

Bldg. E2174

Property Number: 21200820095

Aberdeen Proving Ground

Harford MD

Status: Unutilized

Comments: 132 sq. ft., off-site use only

Bldgs. 02208, 02209

Property Number: 21200820096

Aberdeen Proving Ground

Harford MD

Status: Unutilized

Comments: 11566/18085 sq. ft., most recent use—lodging, off-site use only

Bldg. 02353

Property Number: 21200820097

Aberdeen Proving Ground

Harford MD

Status: Unutilized

Comments: 19252 sq. ft., most recent use—veh maint, off-site use only

Bldgs. 02482, 02484

Property Number: 21200820098

Aberdeen Proving Ground

Harford MD

Status: Unutilized

Comments: 8359 sq. ft., most recent use—gen purp, off-site use only

Bldg. 02483

Property Number: 21200820099

Aberdeen Proving Ground

Harford MD

Status: Unutilized

Comments: 1360 sq. ft., most recent use—heat plt, off-site use only

Bldg.. 02504, 02505

Property Number: 21200820100

Aberdeen Proving Ground

Harford MD

Status: Unutilized

Comments: 11720/17434 sq. ft., most recent use—lodging, off-site use only

Bldg.. 02831, E3488

Property Number: 21200820101

Aberdeen Proving Ground

Harford MD

Status: Unutilized

Comments: 576/64 sq. ft., most recent use—access cnt fac, off-site use only

Bldg. 2831A

Property Number: 21200820102

Aberdeen Proving Ground

Harford MD

Status: Unutilized

Comments: 1200 sq. ft., most recent use—overhead protection, off-site use only

Bldg. 03320

Property Number: 21200820103

Aberdeen Proving Ground

Harford MD

Status: Unutilized

Comments: 10600 sq. ft., most recent use—admin, off-site use only

Bldg. E3466

Property Number: 21200820104

Aberdeen Proving Ground

Aberdeen MD

Status: Unutilized

Comments: 236 sq. ft., most recent use—protective barrier, off-site use only

4 Bldgs.

Property Number: 21200820105

Aberdeen Proving Ground

Harford MD

Location: E3510, E3570, E3640, E3832

Status: Unutilized

Comments: Various sq. ft., most recent use—lab, off-site use only

Bldg. E3544

Property Number: 21200820106

Aberdeen Proving Ground

Harford MD

Status: Unutilized

Comments: 5400 sq. ft., most recent use—ind waste, off-site use only

Bldgs. E3561, 03751

Property Number: 21200820107

Aberdeen Proving Ground

Harford MD

Status: Unutilized

Comments: 64/189 sq. ft., most recent use—access cnt fac, off-site use only

Bldg. 03754

Property Number: 21200820108

Aberdeen Proving Ground

Harford MD

Status: Unutilized

Comments: 324 sq. ft., most recent use—classroom, off-site use only

Bldg. 3823A

Property Number: 21200820109

Aberdeen Proving Ground

Harford MD

Status: Unutilized

Comments: 113 sq. ft., most recent use—shed, off-site use only

Bldg. E3948

Property Number: 21200820110

Aberdeen Proving Ground

Harford MD

Status: Unutilized

Comments: 3420 sq. ft., most recent use—emp chg fac, off-site use only

4 Bldgs.

Property Number: 21200820111

Aberdeen Proving Ground

Harford MD

Location: E5057, E5058, E5246, 05258

Status: Unutilized

Comments: Various sq. ft., most recent use—storage, off-site use only

Bldgs. E5106, 05256

Property Number: 21200820112

Aberdeen Proving Ground

Harford MD

Status: Unutilized

Comments: 18621/8720 sq. ft., most recent use—office, off-site use only

Bldg. E5126

Property Number: 21200820113

Aberdeen Proving Ground

Harford MD

Status: Unutilized

Comments: 17664 sq. ft., most recent use—heat plt, off-site use only

Bldg. E5128

Property Number: 21200820114

Aberdeen Proving Ground

Harford MD

Status: Unutilized

Comments: 3750 sq. ft., most recent use—substation, off-site use only

Bldg. E5188

Property Number: 21200820115

Aberdeen Proving Ground

Harford MD

Status: Unutilized

Comments: 22790 sq. ft., most recent use—lab, off-site use only

Bldg. E5179

Property Number: 21200820116

Aberdeen Proving Ground

Harford MD

Status: Unutilized

Comments: 47335 sq. ft., most recent use—info sys, off-site use only

Bldg. E5190

Property Number: 21200820117

Aberdeen Proving Ground

Harford MD

Status: Unutilized

Comments: 874 sq. ft., most recent use—storage, off-site use only

Bldg. 05223

Property Number: 21200820118

Aberdeen Proving Ground

Harford MD

Status: Unutilized

Comments: 6854 sq. ft., most recent use—gen rep inst, off-site use only

Bldgs. 05259, 05260

Property Number: 21200820119

Aberdeen Proving Ground

Harford MD

Status: Unutilized

Comments: 10067 sq. ft., most recent use—maint, off-site use only

Bldgs. 05263, 05264

Property Number: 21200820120

Aberdeen Proving Ground

Harford MD

Status: Unutilized

Comments: 200 sq. ft., most recent use—org space, off-site use only

5 Bldgs.

Property Number: 21200820121

Aberdeen Proving Ground

Harford MD

Location: 05267, E5294, E5327, E5441, E5485

Status: Unutilized

Comments: Various sq. ft., most recent use—storage, off-site use only

Bldg. E5292

Property Number: 21200820122

Aberdeen Proving Ground

Harford MD

Status: Unutilized

Comments: 1166 sq. ft., most recent use—comp rep inst, off-site use only

Bldg. E5380

Property Number: 21200820123

Aberdeen Proving Ground

Harford MD

Status: Unutilized

Comments: 9176 sq. ft., most recent use—lab, off-site use only

Bldg. E5452

Property Number: 21200820124

Aberdeen Proving Ground

Harford MD

Status: Unutilized

Comments: 9623 sq. ft., off-site use only

Bldg. 05654

Property Number: 21200820125

Aberdeen Proving Ground

Harford MD

Status: Unutilized

Comments: 38 sq. ft. most recent use—shed, off-site use only

Bldg. 05656

Property Number: 21200820126

Aberdeen Proving Ground

Harford MD

Status: Unutilized

Comments: 2240 sq. ft., most recent use—overhead protection off-site use only

5 Bldgs.

Property Number: 21200820127

Aberdeen Proving Ground

Harford MD

Location: E5730, E5738, E5915, E5928, E6875

Status: Unutilized

Comments: Various sq. ft., most recent use—storage, off-site use only

Bldg. E5770

Property Number: 21200820128

Aberdeen Proving Ground

Harford MD

Status: Unutilized

Comments: 174 sq. ft., most recent use—cent wash, off-site use only

Bldg. E5840

Property Number: 21200820129

Aberdeen Proving Ground

Harford MD

Status: Unutilized

Comments: 14200 sq. ft., most recent use—lab, off-site use only

Bldg. E5946

Property Number: 21200820130

Aberdeen Proving Ground

Harford MD

Status: Unutilized

Comments: 2147 sq. ft., most recent use—igloo str, off-site use only

Bldg. E6872

Property Number: 21200820131

Aberdeen Proving Ground

Harford MD

Status: Unutilized

Comments: 1380 sq. ft., most recent use—dispatch, off-site use only

Bldgs. E7331, E7332, E7333

Property Number: 21200820132

Aberdeen Proving Ground

Harford MD

Status: Unutilized

Comments: Most recent use—protective barrier, off-site use only

Bldg. E7821

Property Number: 21200820133

Aberdeen Proving Ground

Harford MD

Status: Unutilized

Comments: 3500 sq. ft., most recent use—xmitter bldg, off-site use only

Bldg. 02483

Property Number: 21200920025

Aberdeen Proving Ground

Harford MD 21005

Status: Unutilized

Comments:1360 sq. ft., most recent use—heat plt bldg., off-site use only

Bldg. 03320

Property Number: 21200920026

Aberdeen Proving Ground

Harford MD 21005

Status: Unutilized

Comments: 10,600 sq. ft., most recent use—admin., off-site use only

Land

2 acres

Property Number: 21200640095

Fort Meade

Odenton Rd/Rt 175

Ft. Meade MD 20755

Status: Unutilized

Comments: Light industrial

16 acres

Property Number: 21200640096

Fort Meade

Rt 198/Airport Road

Ft. Meade MD 20755

Status: Unutilized

Comments: light industrial

Mississippi

GSA

Building

James O. Eastland

Property Number: 54201040020

245 East Capitol St.

Jackson Co: Hinds MS 39201-2409

Location: Federal Bldg. and Courthouse

Status: Excess

Comments: 14,000 sq. ft., current/recent use: gov't offices and courtrooms, asbestos identified behind walls, and historic bldg. preservation covenants will be included in the Deed of Conveyance

GSA Number: 4-G-MS-0567-AA

Missouri

Air Force

Land

Communications Site

Property Number: 18200710001

County Road 424

Dexter Co: Stoddard MO

Status: Unutilized

Comments: 10.63 acres

Outer Marker Annex

Property Number: 18200940001

Whiteman AFB

Knob Noster MO 65336

Status: Unutilized

Comments: 0.75 acres, most recent use—communication

Annex No. 3

Property Number: 18201020001

Whiteman AFB

Knob Noster MO 65336

Status: Underutilized

Comments: 9 acres

Missouri

Army

Building

Bldg. T1497

Property Number: 21199420441

Fort Leonard Wood

Ft. Leonard Wood Co: Pulaski MO 65473-5000

Status: Underutilized

Comments: 4720 sq. ft., 2-story, presence of lead base paint, most recent use—admin/gen. purpose, off-site use only

Bldg. T2139

Property Number: 21199420446

Fort Leonard Wood

Ft. Leonard Wood Co: Pulaski MO 65473-5000

Status: Underutilized

Comments: 3663 sq. ft., 1-story, presence of lead base paint, most recent use—admin/gen. purpose, off-site use only

Bldg. T2385

Property Number: 21199510115

Fort Leonard Wood

Ft. Leonard Wood Co: Pulaski MO 65473

Status: Excess

Comments: 3158 sq. ft., 1-story, wood frame, most recent use—admin., to be vacated 8/95, off-site use only

Bldg. 2167

Property Number: 21199820179

Fort Leonard Wood

Ft. Leonard Wood Co: Pulaski MO 65473-5000

Status: Unutilized

Comments: 1296 sq. ft., presence of asbestos/lead paint, most recent use—admin., off-site use only

Bldgs. 2192, 2196, 2198

Property Number: 21199820183

Fort Leonard Wood

Ft. Leonard Wood Co: Pulaski MO 65473-5000

Status: Unutilized

Comments: 4720 sq. ft., presence of asbestos/lead paint, most recent use—barracks, off-site use only

12 Bldgs

Property Number: 21200410110

Fort Leonard Wood

Ft. Leonard Wood Co: Pulaski MO 65743-8944

Location: 07036, 07050, 07054, 07102, 07400, 07401, 08245, 08249, 08251, 08255, 08257, 08261

Status: Unutilized

Comments: 7152 sq. ft. 6 plex housing quarters, potential contaminants, off-site use only

6 Bldg

Property Number: 21200410111

Fort Leonard Wood

Ft. Leonard Wood Co: Pulaski MO 65743-8944

Location: 07044, 07106, 07107, 08260, 08281, 08300

Status: Unutilized

Comments: 9520 sq ft., 8 plex housing quarters, potential contaminants, off-site use only

15 Bldgs

Property Number: 21200410112

Fort Leonard Wood

Ft. Leonard Wood Co: Pulaski MO 65743-8944

Location: 08242, 08243, 08246-08248, 08250, 08252-08254, 08256, 08258-08259, 08262-08263, 08265

Status: Unutilized

Comments: 4784 sq ft., 4 plex housing quarters, potential contaminants, off-site use only

Bldgs 08283, 08285

Property Number: 21200410113

Fort Leonard Wood

Ft. Leonard Wood Co: Pulaski MO 65743-8944

Status: Unutilized

Comments: 2240 sq ft, 2 plex housing quarters, potential contaminants, off-site use only

15 Bldgs

Property Number: 21200410114

Fort Leonard Wood

Ft. Leonard Wood Co: Pulaski MO 65743-0827

Location: 08267, 08269, 08271, 08273, 08275, 08277, 08279, 08290, 08296, 08301

Status: Unutilized

Comments: 4784 sq ft., 4 plex housing quarters, potential contaminants, off-site use only

Bldg 09432

Property Number: 21200410115

Fort Leonard Wood

Ft. Leonard Wood Co: Pulaski MO 65743-8944

Status: Unutilized

Comments: 8724 sq ft., 6-plex housing quarters, potential contaminants, off-site use only

Bldgs. 5006 and 5013

Property Number: 21200430064

Fort Leonard Wood

Ft. Leonard Wood Co: Pulaski MO 65743-8944

Status: Unutilized

Comments: 192 sq. ft., needs repair, most recent use—generator bldg., off-site use only

Bldgs. 13210, 13710

Property Number: 21200430065

Fort Leonard Wood

Ft. Leonard Wood Co: Pulaski MO 65743-8944

Status: Unutilized

Comments: 144 sq. ft. each, needs repair, most recent use—communication, off-site use only

Montana

Bldg. 00405

Property Number: 21200130099

Fort Harrison

Ft. Harrison Co: Lewis/Clark MT 59636

Status: Unutilized

Comments: 3467 sq. ft., most recent use—storage, security limitations

Bldg. T0066

Property Number: 21200130100

Fort Harrison

Ft. Harrison Co: Lewis/Clark MT 59636

Status: Unutilized

Comments: 528 sq. ft., needs rehab, presence of asbestos, security limitations

Bldg. 00001

Property Number: 21200540093

Sheridan Hall USARC

Helena MT 59601

Status: Unutilized

Comments: 19,321 sq. ft., most recent use—Reserve Center

Bldg. 00003

Property Number: 21200540094

Sheridan Hall USARC

Helena MT 59601

Status: Unutilized

Comments: 1950 sq. ft., most recent use—maintenance/storage

COE

Bldg. 1

Property Number: 31200040010

Butte Natl Guard

Butte Co: Silverbow MT 59701

Status: Unutilized

Comments: 22799 sq. ft., presence of asbestos, most recent use—cold storage, off-site use only

Bldg. 2

Property Number: 31200040011

Butte Natl Guard

Butte Co: Silverbow MT 59701

Status: Unutilized

Comments: 3292 sq. ft., most recent use—cold storage, off-site use only

Bldg. 3

Property Number: 31200040012

Butte Natl Guard

Butte Co: Silverbow MT 59701

Status: Unutilized

Comments: 964 sq. ft., most recent use—cold storage, off-site use only

Bldg. 4

Property Number: 31200040013

Butte Natl Guard

Butte Co: Silverbow MT 59701

Status: Unutilized

Comments: 72 sq. ft., most recent use—cold storage, off-site use only

Bldg. 5

Property Number: 31200040014

Butte Natl Guard

Butte Co: Silverbow MT 59701

Status: Unutilized

Comments: 1286 sq. ft., most recent use—cold storage, off-site use only

New Jersey

Bldg. 732

Property Number: 21199740315

Armament R Engineering Center

Picatinny Arsenal Co: Morris NJ 07806-5000

Status: Unutilized

Comments: 9077 sq. ft., needs rehab, most recent use—storage, off-site use only

Bldg. 816C

Property Number: 21200130103

Armament R, D, Center

Picatinny Arsenal Co: Morris NJ 07806-5000

Status: Unutilized

Comments: 144 sq. ft., most recent use—storage, off-site use only

5 Bldgs.

Property Number: 21200940032

Picatinny Arsenal

Dover NJ 07806

Location: 3710, 3711, 3712, 3713, 3714

Status: Unutilized

Comments: Residential trailers, needs rehab, off-site use only

Bldgs. 3704, 3706

Property Number: 21201010016

Picatinny Arsenal

Dover NJ 07806

Status: Unutilized

Comments: 768 sq. ft. residential trailers, needs rehab, off-site use only

New Mexico

Bldg. 34198

Property Number: 21200230062

White Sands Missile Range

Dona Ana NM 88002

Status: Excess

Comments: 107 sq. ft., most recent use—security, off-site use only

New York

Air Force

Bldg. 240

Property Number: 18200340023

Rome Lab

Rome Co: Oneida NY 13441

Status: Unutilized

Comments: 39108 sq. ft., presence of asbestos, most recent use—Electronic Research Lab

Bldg. 247

Property Number: 18200340024

Rome Lab

Rome Co: Oneida NY 13441

Status: Unutilized

Comments: 13199 sq. ft., presence of asbestos, most recent use—Electronic Research Lab

Bldg. 248

Property Number: 18200340025

Rome Lab

Rome Co: Oneida NY 13441

Status: Unutilized

Comments: 4000 sq. ft., presence of asbestos, most recent use—Electronic Research Lab

Bldg. 302

Property Number: 18200340026

Rome Lab

Rome Co: Oneida NY 13441

Status: Unutilized

Comments: 10288 sq. ft., presence of asbestos, most recent use—communications facility

Army

Bldg.1227

Property Number: 21200440074

U.S. Military Academy

Highlands Co: Orange NY 10996-1592

Status: Unutilized

Comments: 3800 sq. ft., needs repair, possible asbestos/lead paint, most recent use—maintenance, off-site use only

Bldg. 2218

Property Number: 21200510067

Stewart Newburg USARC

New Windsor Co: Orange NY 12553-9000

Status: Unutilized

Comments: 32,000 sq. ft., poor condition, requires major repairs, most recent use—storage/services

7 Bldgs.

Property Number: 21200510068

Stewart Newburg USARC

New Windsor Co: Orange NY 12553-9000

Location: 2122, 2124, 2126, 2128, 2106, 2108, 2104

Status: Unutilized

Comments: Sq. ft. varies, poor condition, needs major repairs, most recent use—storage/services

Bldg. 1230

Property Number: 21200940014

U.S. Army Garrison

Orange NY 10996

Status: Unutilized

Comments: 4538 sq. ft., possible asbestos/lead paint, most recent use—clubhouse, off-site use only

Bldg. 4802

Property Number: 21201010019

Fort Drum

Jefferson NY 13602

Status: Unutilized

Comments: 3300 sq. ft., most recent use—hdgts. facility, off-site use only

Bldgs. 4813

Property Number: 21201010020

Fort Drum

Jefferson NY 13602

Status: Unutilized

Comments: 750 sq. ft., most recent use—wash rack, off-site use only

Bldg. 4814

Property Number: 21201010021

Fort Drum

Jefferson NY 13602

Status: Unutilized

Comments: 2592 sq. ft., most recent use—item repair, off-site use only

Bldgs. 1240, 1255

Property Number: 21201010022

Fort Drum

Jefferson NY 13602

Status: Unutilized

Comments: Various sq. ft., most recent use—vehicle maint. facility, off-site use only

6 Bldgs.

Property Number: 21201010023

Fort Drum

Jefferson NY 13602

Location: 1248, 1250, 1276, 2361, 4816, 4817

Status: Unutilized

Comments: Various sq. ft., most recent use—storage, off-site use only

Bldg. 1050

Property Number: 21201010024

Fort Drum

Jefferson NY 13602

Status: Unutilized

Comments: 1493 sq. ft., most recent use—training, off-site use only

Bldg. 10791

Property Number: 21201010025

Fort Drum

Jefferson NY 13602

Status: Unutilized

Comments: 72 sq. ft., most recent use—smoking shelter, off-site use only

VA

Bldg. 3

Property Number: 97200520001

VA Medical Center

Batavia Co: Genesee NY 14020

Status: Unutilized

Comments: 5840 sq. ft., needs rehab, presence of asbestos, most recent use—offices, eligible for Natl Register of Historic Places 1/5/2011, Renovated and currently using it for MCCF and VISN Finance

North Carolina

Air Force

Land

0.14 acres

Property Number: 18200810001

Pope AFB

Pope AFB NC

Status: Excess

Comments: Most recent use—middle marker, easement for entry

GSA

Building

Greensboro Federal Bldg.

Property Number: 54201040018

320 Federal Place

Geensboro NC 27401

Status: Excess

Comments: 94,809 sq. ft. office bldg., major structural issues exist with exterior brick facade

GSA Number: 4-G-NC-750

Ohio

Army

Land

Land

Property Number: 21200340094

Defense Supply Center

Columbus Co: Franklin OH 43216-5000

Status: Excess

Comments: 11 acres, railroad access

COE

Building

Barker Historic House

Property Number: 31199120018

Willow Island Locks and Dam

Newport Co: Washington OH 45768-9801

Location: Located at lock site, downstream of lock and dam structure

Status: Unutilized

Comments: 1600 sq. ft. bldg. with ½ acre of land, 2 story brick frame, needs rehab, on Natl Register of Historic Places, no utilities, off-site use only

Bldg. MURDOT-23142

Property Number: 31201020001

5153 State Rd

Dover OH 44622

Status: Unutilized

Comments: 664 sq. ft. office bldg., presence of asbestos/lead paint, off-site use only

Oklahoma

Army

Bldg. T-838, Fort Sill

Property Number: 21199220609

838 Macomb Road

Lawton Co: Comanche OK 73503-5100

Status: Unutilized

Comments: 151 sq. ft., wood frame, 1 story, off-site removal only, most recent use—vet facility (quarantine stable).

Bldg. T-954, Fort Sill

Property Number: 21199240659

954 Quinette Road

Lawton Co: Comanche OK 73503-5100

Status: Unutilized

Comments: 3571 sq. ft., 1 story wood frame, needs rehab, off-site use only, most recent use—motor repair shop.

Bldg. T-3325, Fort Sill

Property Number: 21199240681

3325 Naylor Road

Lawton Co: Comanche OK 73503-5100

Status: Unutilized

Comments: 8832 sq. ft., 1 story wood frame, needs rehab, off-site use only, most recent use—warehouse.

Bldg. T-4226

Property Number: 21199440384

Fort Sill

Lawton Co: Comanche OK 73503

Status: Unutilized

Comments: 114 sq. ft., 1-story wood frame, possible asbestos and lead paint, most recent use—storage, off-site use only

Bldg. P-1015, Fort Sill

Property Number: 21199520197

Lawton Co: Comanche OK 73501-5100

Status: Unutilized

Comments: 15402 sq. ft., 1-story, most recent use—storage, off-site use only

Bldg. P-366, Fort Sill

Property Number: 21199610740

Lawton Co: Comanche OK 73503

Status: Unutilized

Comments: 482 sq. ft., possible asbestos, most recent use—storage, off-site use only

Building P-5042

Property Number: 21199710066

Fort Sill

Lawton Co: Comanche OK 73503-5100

Status: Unutilized

Comments: 119 sq. ft., possible asbestos and leadpaint, most recent use—heatplant, off-site use only

4 Buildings

Property Number: 21199710086

Fort Sill

Lawton Co: Comanche OK 73503-5100

Location: T-6465, T-6466, T-6467, T-6468

Status: Unutilized

Comments: Various sq. ft., possible asbestos and leadpaint, most recent use—range support, off-site use only

Bldg. T-810

Property Number: 21199730350

Fort Sill

Lawton Co: Comanche OK 73503-5100

Status: Unutilized

Comments: 7205 sq. ft., possible asbestos/lead paint, most recent use—hay storage, off-site use only

Bldgs. T-837, T-839

Property Number: 21199730351

Fort Sill

Lawton Co: Comanche OK 73503-5100

Status: Unutilized

Comments: Approx. 100 sq. ft. each, possible asbestos/lead paint, most recent use—storage, off-site use only

Bldg. P-934

Property Number: 21199730353

Fort Sill

Lawton Co: Comanche OK 73503-5100

Status: Unutilized

Comments: 402 sq. ft., possible asbestos/lead paint, most recent use—storage, off-site use only

Bldgs. T-1468, T-1469

Property Number: 21199730357

Fort Sill

Lawton Co: Comanche OK 73503-5100

Status: Unutilized

Comments: 114 sq. ft., possible asbestos/lead paint, most recent use—storage, off-site use only

Bldg. T-1470

Property Number: 21199730358

Fort Sill

Lawton Co: Comanche OK 73503-5100

Status: Unutilized

Comments: 3120 sq. ft., possible asbestos/lead paint, most recent use—storage, off-site use only

Bldgs. T-1954, T-2022

Property Number: 21199730362

Fort Sill

Lawton Co: Comanche OK 73503-5100

Status: Unutilized

Comments: Approx. 100 sq. ft. each, possible asbestos/lead paint, most recent use—storage, off-site use only

Bldg. T-2184

Property Number: 21199730364

Fort Sill

Lawton Co: Comanche OK 73503-5100

Status: Unutilized

Comments: 454 sq. ft., possible asbestos/lead paint, most recent use—storage, off-site use only

Bldgs. T-2186, T-2188, T-2189

Property Number: 21199730366

Fort Sill

Lawton Co: Comanche OK 73503-5100

Status: Unutilized

Comments: 1656-3583 sq. ft., possible asbestos/lead paint, most recent use—vehicle maint. shop, off-site use only

Bldg. T-2187

Property Number: 21199730367

Fort Sill

Lawton Co: Comanche OK 73503-5100

Status: Unutilized

Comments: 1673 sq. ft., possible asbestos/lead paint, most recent use—storage, off-site use only

Bldgs. T-2291 thru T-2296

Property Number: 21199730372

Fort Sill

Lawton Co: Comanche OK 73503-5100

Status: Unutilized

Comments: 400 sq. ft. each, possible asbestos/lead paint, most recent use—storage, off-site use only

Bldgs. T-3001, T-3006

Property Number: 21199730383

Fort Sill

Lawton Co: Comanche OK 73503-5100

Status: Unutilized

Comments: Approx. 9300 sq. ft., possible asbestos/lead paint, most recent use—storage, off-site use only

Bldg. T-3314

Property Number: 21199730385

Fort Sill

Lawton Co: Comanche OK 73503-5100

Status: Unutilized

Comments: 229 sq. ft., possible asbestos/lead paint, most recent use—office, off-site use only

Bldg. T-5041

Property Number: 21199730409

Fort Sill

Lawton Co: Comanche OK 73503-5100

Status: Unutilized

Comments: 763 sq. ft., possible asbestos/lead paint, most recent use—storage, off-site use only

Bldg. T-5420

Property Number: 21199730414

Fort Sill

Lawton Co: Comanche OK 73503-5100

Status: Unutilized

Comments: 189 sq. ft., possible asbestos/lead paint, most recent use—fuel storage, off-site use only

Bldg. T-7775

Property Number: 21199730419

Fort Sill

Lawton Co: Comanche OK 73503-5100

Status: Unutilized

Comments: 1452 sq. ft., possible asbestos/lead paint, most recent use—private club, off-site use only

4 Bldgs.

Property Number: 21199910133

Fort Sill

P-617, P-1114, P-1386, P-1608

Lawton Co: Comanche OK 73503-5100

Status: Unutilized

Comments: 106 sq. ft., possible asbestos/lead paint, most recent use—utility plant, off-site use only

Bldg. P-746

Property Number: 21199910135

Fort Sill

Lawton Co: Comanche OK 73503-5100

Status: Unutilized

Comments: 6299 sq. ft., possible asbestos/lead paint, most recent use—admin., off-site use only

Bldg. P-2582

Property Number: 21199910141

Fort Sill

Lawton Co: Comanche OK 73503-5100

Status: Unutilized

Comments: 3672 sq. ft., possible asbestos/lead paint, most recent use—admin., off-site use only

Bldg. P-2914

Property Number: 21199910146

Fort Sill

Lawton Co: Comanche OK 73503-5100

Status: Unutilized

Comments: 1236 sq. ft., possible asbestos/lead paint, most recent use—storage, off-site use only

Bldg. P-5101

Property Number: 21199910153

Fort Sill

Lawton Co: Comanche OK 73503-5100

Status: Unutilized

Comments: 82 sq. ft., possible asbestos/lead paint, most recent use—gas station, off-site use only

Bldg. S-6430

Property Number: 21199910156

Fort Sill

Lawton Co: Comanche OK 73503-5100

Status: Unutilized

Comments: 2080 sq. ft., possible asbestos/lead paint, most recent use—range support, off-site use only

Bldg. T-6461

Property Number: 21199910157

Fort Sill

Lawton Co: Comanche OK 73503-5100

Status: Unutilized

Comments: 200 sq. ft., possible asbestos/lead paint, most recent use—range support, off-site use only

Bldg. T-6462

Property Number: 21199910158

Fort Sill

Lawton Co: Comanche OK 73503-5100

Status: Unutilized

Comments: 64 sq. ft., possible asbestos/lead paint, most recent use—control tower, off-site use only

Bldg. P-7230

Property Number: 21199910159

Fort Sill

Lawton Co: Comanche OK 73503-5100

Status: Unutilized

Comments: 160 sq. ft., possible asbestos/lead paint, most recent use—transmitter bldg., off-site use only

Bldg. S-4023

Property Number: 21200010128

Fort Sill

Lawton Co: Comanche OK 73503-5100

Status: Unutilized

Comments: 1200 sq. ft., possible asbestos/lead paint, most recent use—storage, off-site use only

Bldg. P-747

Property Number: 21200120120

Fort Sill

Lawton Co: Comanche OK 73503-5100

Status: Unutilized

Comments: 9232 sq. ft., possible asbestos/lead paint, most recent use—lab, off-site use only

Bldg. P-842

Property Number: 21200120123

Fort Sill

Lawton Co: Comanche OK 73503-5100

Status: Unutilized

Comments: 192 sq. ft., possible asbestos/lead paint, most recent use—storage, off-site use only

Bldg. T-911

Property Number: 21200120124

Fort Sill

Lawton Co: Comanche OK 73503-5100

Status: Unutilized

Comments: 3080 sq. ft., possible asbestos/lead paint, most recent use—office, off-site use only

Bldg. P-1672

Property Number: 21200120126

Fort Sill

Lawton Co: Comanche OK 73503-5100

Status: Unutilized

Comments: 1056 sq. ft., possible asbestos/lead paint, most recent use—storage, off-site use only

Bldg. S-2362

Property Number: 21200120127

Fort Sill

Lawton Co: Comanche OK 73503-5100

Status: Unutilized

Comments: 64 sq. ft., possible asbestos/lead paint, most recent use—gatehouse, off-site use only

Bldg. P-2589

Property Number: 21200120129

Fort Sill

Lawton Co: Comanche OK 73503-5100

Status: Unutilized

Comments: 3672 sq. ft., possible asbestos/lead paint, most recent use—storage, off-site use only

Bldgs. 00937, 00957

Property Number: 21200710104

Fort Sill

Lawton OK 73501

Status: Unutilized

Comments: 1558 sq. ft., most recent use—storage shed, off-site use only

Bldg.01514

Property Number: 21200710105

Fort Sill

Lawton OK 73501

Status: Unutilized

Comments: 1602 sq. ft., most recent use—storage, off-site use only

Bldg. 05685

Property Number: 21200820152

Fort Sill

Lawton OK 73501

Status: Unutilized

Comments: 24,072 sq. ft., concrete block/w brick, off-site use only

Bldg. 07480

Property Number: 21200920002

Fort Sill

Lawton OK 73501

Status: Unutilized

Comments: 1200 sq. ft., most recent use—recreation, off-site use only

Bldgs. 01509, 01510

Property Number: 21200920060

Fort Sill

Lawton OK 73501

Status: Unutilized

Comments: Various sq. ft., most recent use—vehicle maint. shop, off-site use only

4 Bldgs.

Property Number: 21200920061

Fort Sill

2591, 2593, 2595, 2604

Lawton OK 73501

Status: Unutilized

Comments: Various sq. ft., most recent use—classroom/admin, off-site use only

Bldg. 06456

Property Number: 21200930003

Fort Sill

Lawton OK 73501

Status: Unutilized

Comments: 413 sq. ft. range support facility, off-site use only

COE

Land

Pine Creek Lake

Property Number: 31199010923

Section 27

(See County) Co: McCurtain OK

Status: Unutilized

Comments: 3 acres; no utilities; subject to right of way for Oklahoma State Highway 3

Oregon

GSA

Building

Residence Property Number: 54201040012

140 Government Road

Malheur Natl Forest

John Day OR 97845

Status: Excess

Comments: 1560 sq. ft., presence of asbestos/lead paint, off-site use only

GSA Number: 9-A-OR-0786-AA

Pennsylvania

COE

Mahoning Creek Reservoir Property Number: 31199210008

New Bethlehem Co: Armstrong PA 16242

Status: Unutilized

Comments: 1015 sq. ft., 2 story brick residence, off-site use only

Dwelling

Property Number: 31199620008

Lock 6, Allegheny River, 1260 River Rd.

Freeport Co: Armstrong PA 16229-2023

Status: Unutilized

Comments: 2652 sq. ft., 3-story brick house, in close proximity to Lock and Dam, available for interim use for nonresidential purposes

Dwelling

Property Number: 31199710009

Lock 4, Allegheny River

Natrona Co: Allegheny PA 15065-2609

Status: Unutilized

Comments: 1664 sq. ft., 2-story brick residence, needs repair, off-site use only

Dwelling #1

Property Number: 31199740002

Crooked Creek Lake

Ford City Co: Armstrong PA 16226-8815

Status: Excess

Comments: 2030 sq. ft., most recent use—residential, good condition, off-site use only

Dwelling #2

Property Number: 31199740003

Crooked Creek Lake

Ford City Co: Armstrong PA 16226-8815

Status: Excess

Comments: 3045 sq. ft., most recent use—residential, good condition, off-site use only

Govt Dwelling Property Number: 31199740005

East Branch Lake

Wilcox Co: Elk PA 15870-9709

Status: Underutilized

Comments: Approx. 5299 sq. ft., 1-story, most recent use—residence, off-site use only

Dwelling #1

Property Number: 31199740006

Loyalhanna Lake

Saltsburg Co: Westmoreland PA 15681-9302

Status: Excess

Comments: 1996 sq. ft., most recent use—residential, good condition, off-site use only

Dwelling #2

Property Number: 31199740007

Loyalhanna Lake

Saltsburg Co: Westmoreland PA 15681-9302

Status: Excess

Comments: 1996 sq. ft., most recent use—residential, good condition, off-site use only

Dwelling #2

Property Number: 31199740009

Lock 6, 1260 River Road

Freeport Co: Armstrong PA 16229-2023

Status: Excess

Comments: 2652 sq. ft., most recent use—residential, good condition, off-site use only

Residence A

Property Number: 31200410007

2045 Pohopoco Drive

Lehighton Co: Carbon PA 18235

Status: Unutilized

Comments: 1200 sq. ft., presence of asbestos, off-site use only

BEL-007

Property Number: 31201030001

2145 Pohopco Dr.

Lehighton PA 18235

Status: Unutilized

Comments: 1188 sq. ft., off-site use only

Land

Mahoning Creek Lake

Property Number: 31199010018

New Bethlehem Co: Armstrong PA 16242-9603

Location: Route 28 north to Belknap, Road #4

Status: Excess

Comments: 2.58 acres; steep and densely wooded

Tracts 610, 611, 612

Property Number: 31199011001

Shenango River Lake

Sharpsville Co: Mercer PA 16150

Location: I-79 North, I-80 West, Exit Sharon. R18 North 4 miles, left on R518, right on Mercer Avenue.

Status: Excess

Comments: 24.09 acres; subject to flowage easement

Tracts L24, L26

Property Number: 31199011011

Crooked Creek Lake

Null Co: Armstrong PA 03051

Location: Left bank—55 miles downstream of dam.

Status: Unutilized

Comments: 7.59 acres; potential for utilities

Portion of Tract L-21A

Property Number: 31199430012

Crooked Creek Lake, LR 03051

Ford City Co: Armstrong PA 16226

Status: Unutilized

Comments: Approximately 1.72 acres of undeveloped land, subject to gas rights

South Carolina

Air Force

Building

256 Housing Units

Property Number: 18200920001

Charleston AFB

South Side Housing

Charleston SC

Status: Excess

Comments: Various sq. ft., presence of asbestos/lead paint, off-site use only

GSA

Naval Health Clinic

Property Number: 54201040013

3600 Rivers Ave.

Charleston SC 29405

Status: Excess

Comments: Redetermination: 399,836 sq. ft., most recent use: office

GSA Number: 4-N-SC-0606

South Dakota

Army

Bldg. 03001

Property Number: 21200740187

Jonas H. Lien AFRC

Sioux Falls SD 57104

Status: Unutilized

Comments: 33282 sq. ft., most recent use—training center

Bldg. 03003

Property Number: 21200740188

Jonas H. Lien AFRC

Sioux Falls SD 57104

Status: Unutilized

Comments: 4675 sq. ft., most recent use—vehicle maint. shop

COE

Land

Portion/Tract A127

Property Number: 31200940001

Gavins Point Dam

Yankton SD

Status: Unutilized

Comments: 0.3018 acre, road right of way

Tennessee

Army

Building

Bldg. Trail

Property Number: 21200920010

Fort Campbell

Montgomery TN 42223

Status: Excess

Comments: 2104 sq. ft., double-wide trailer, off-site use only

Land

Parcel No. 1

Property Number: 21200920003

Fort Campbell

Tract No. 13M-3

Montgomery TN 42223

Status: Excess

Comments: 6.89 acres/thick vegetation

Parcel No. 2

Property Number: 21200920004

Fort Campbell

Tract Nos. 12M-16B & 13M-3

Montgomery TN 42223

Status: Excess

Comments: 3.41 acres/wooded

Parcel No. 3

Property Number: 21200920005

Fort Campbell

Tract No. 12M-4

Montgomery TN 42223

Status: Excess

Comments: 6.56 acre/wooded

Parcel No. 4

Property Number: 21200920006

Fort Campbell

Tract Nos. 10M-22 &10M-23

Montgomery TN 42223

Status: Excess

Comments: 5.73 acres/wooded

Parcel No. 5

Property Number: 21200920007

Fort Campbell

Tract No. 10M-20

Montgomery TN 42223

Status: Excess

Comments: 3.86 acres/wooded

Parcel No. 7

Property Number: 21200920008

Fort Campbell

Tract No. 10M-10

Montgomery TN 42223

Status: Excess

Comments: 9.47 acres/wooded

Parcel No. 8

Property Number: 21200920009

Fort Campbell

Tract No. 8M-7

Montgomery TN 42223

Status: Excess

Comments: 15.13 acres/wooded

Parcel No. 6

Property Number: 21200940013

Fort Campbell

Hwy 79

Montgomery TN 42223

Status: Excess

Comments: 4.55 acres, wooded w/dirt road/fire break

COE

Tract 6827

Property Number: 31199010927

Barkley Lake

Dover Co: Stewart TN 37058

Location:

2 ½ miles west of Dover, TN.

Status: Excess

Comments: .57 acres; subject to existing easements.

Tracts 6002-2 and 6010

Property Number: 31199010928

Barkley Lake

Dover Co: Stewart TN 37058

Location:

3 ½ miles south of village of Tabaccoport.

Status: Excess

Comments: 100.86 acres; subject to existing easements.

Tract 11516

Property Number: 31199010929

Barkley Lake

Ashland City Co: Dickson TN 37015

Location:

1/2 mile downstream from Cheatham Dam

Status: Excess

Comments: 26.25 acres; subject to existing easements.

Tract 2319

Property Number: 31199010930

J. Percy Priest Dam and Resorvoir

Murfreesboro Co: Rutherford TN 37130

Location:

West of Buckeye Bottom Road

Status: Excess

Comments: 14.48 acres; subject to existing easements.

Tract 2227

Property Number: 31199010931

J. Percy Priest Dam and Resorvoir

Murfreesboro Co: Rutherford TN 37130

Location:

Old Jefferson Pike

Status: Excess

Comments: 2.27 acres; subject to existing easements.

Tract 2107

Property Number: 31199010932

J. Percy Priest Dam and Reservoir

Murfreesboro Co: Rutherford TN 37130

Location:

Across Fall Creek near Fall Creek camping area.

Status: Excess

Comments: 14.85 acres; subject to existing easements.

Tracts 2601, 2602, 2603, 2604

Property Number: 31199010933

Cordell Hull Lake and Dam Project

Doe Row Creek

Gainesboro Co: Jackson TN 38562

Location:

TN Highway 56

Status: Unutilized

Comments: 11 acres; subject to existing easements.

Tract 1911

Property Number: 31199010934

J. Percy Priest Dam and Reservoir

Murfreesboro Co: Rutherford TN 37130

Location:

East of Lamar Road

Status: Excess

Comments: 6.92 acres; subject to existing easements.

Tract 7206

Property Number: 31199010936

Barkley Lake

Dover Co: Stewart TN 37058

Location:

2 ½ miles SE of Dover, TN.

Status: Excess

Comments: 10.15 acres; subject to existing easements.

Tracts 8813, 8814

Property Number: 31199010937

Barkley Lake

Cumberland Co: Stewart TN 37050

Location:

1 ½ miles East of Cumberland City.

Status: Excess

Comments: 96 acres; subject to existing easements.

Tract 8911

Property Number: 31199010938

Barkley Lake

Cumberland City Co: Montgomery TN 37050

Location:

4 miles east of Cumberland City.

Status: Excess

Comments: 7.7 acres; subject to existing easements.

Tract 11503

Property Number: 31199010939

Barkley Lake

Ashland City Co: Cheatham TN 37015

Location:

2 miles downstream from Cheatham Dam.

Status: Excess

Comments: 1.1 acres; subject to existing easements.

Tracts 11523, 11524

Property Number: 31199010940

Barkley Lake

Ashland City Co: Cheatham TN 37015

Location:

2 ½ miles downstream from Cheatham Dam.

Status: Excess

Comments: 19.5 acres; subject to existing easements.

Tract 6410

Property Number: 31199010941

Barkley Lake

Bumpus Mills Co: Stewart TN 37028

Location:

4 ½ miles SW. of Bumpus Mills.

Status: Excess

Comments: 17 acres; subject to existing easements.

Tract 9707

Property Number: 31199010943

Barkley Lake

Palmyer Co: Montgomery TN 37142

Location:

3 miles NE of Palmyer, TN. Highway 149

Status: Excess

Comments: 6.6 acres; subject to existing easements.

Tract 6949

Property Number: 31199010944

Barkley Lake

Dover Co: Stewart TN 37058

Location:

1 ½ miles SE of Dover, TN.

Status: Excess

Comments: 29.67 acres; subject to existing easements.

Tracts 6005 and 6017

Property Number: 31199011173

Barkley Lake

Dover Co: Stewart TN 37058

Location:

3 miles south of Village of Tobaccoport.

Status: Excess

Comments: 5 acres; subject to existing easements.

Tracts K-1191, K-1135

Property Number: 31199130007

Old Hickory Lock and Dam

Hartsville Co: Trousdale TN 37074

Status: Underutilized

Comments: 54 acres, (portion in floodway), most recent use—recreation

Tract A-102

Property Number: 31199140006

Dale Hollow Lake Project

Canoe Ridge, State Hwy 52

Celina Co: Clay TN 38551

Status: Underutilized

Comments: 351 acres, most recent use—hunting, subject to existing easements

Tract A-120

Property Number: 31199140007

Dale Hollow Lake Project

Swann Ridge, State Hwy No. 53

Celina Co: Clay TN 38551

Status: Underutilized

Comments: 883 acres, most recent use—hunting, subject to existing easements

Tract D-185

Property Number: 31199140010

Dale Hollow Lake Project

Ashburn Creek, Hwy No. 53

Livingston Co: Clay TN 38570

Status: Underutilized

Comments: 97 acres, most recent use—hunting, subject to existing easements

Texas

Air Force

0.13 acres

Property Number: 18200810002

DYAB, Dyess AFB

Tye Co: Taylor TX 79563

Status: Unutilized

Comments: Most recent use—middle marker, access limitation

Army

Building

Bldg. 7137, Fort Bliss

Property Number: 21199640564

El Paso Co: El Paso TX 79916

Status: Unutilized

Comments: 35,736 sq. ft., 3-story, most recent use—housing, off-site use only

Bldg. 92043

Property Number: 21200020206

Fort Hood

Ft. Hood Co: Bell TX 76544

Status: Unutilized

Comments: 450 sq. ft., most recent use—storage, off-site use only

Bldg. 92044

Property Number: 21200020207

Fort Hood

Ft. Hood Co: Bell TX 76544

Status: Unutilized

Comments: 1920 sq. ft., most recent use—admin., off-site use only

Bldg. 92045

Property Number: 21200020208

Fort Hood

Ft. Hood Co: Bell TX 76544

Status: Unutilized

Comments: 2108 sq. ft., most recent use—maint., off-site use only

Bldg. 56305

Property Number: 21200220143

Fort Hood

Ft. Hood Co: Bell TX 76544

Status: Unutilized

Comments: 2160 sq. ft., most recent use—admin., off-site use only

Bldgs. 56620, 56621

Property Number: 21200220146

Fort Hood

Ft. Hood Co: Bell TX 76544

Status: Unutilized

Comments: 1120 sq. ft., most recent use—shower, off-site use only

Bldgs. 56626, 56627

Property Number: 21200220147

Fort Hood

Ft. Hood Co: Bell TX 76544

Status: Unutilized

Comments: 1120 sq. ft., most recent use—shower, off-site use only

Bldg. 56628

Property Number: 21200220148

Fort Hood

Ft. Hood Co: Bell TX 76544

Status: Unutilized

Comments: 1133 sq. ft., most recent use—shower, off-site use only

Bldgs. 56636, 56637

Property Number: 21200220150

Fort Hood

Ft. Hood Co: Bell TX 76544

Status: Unutilized

Comments: 1120 sq. ft., most recent use—shower, off-site use only

Bldg. 56638

Property Number: 21200220151

Fort Hood

Ft. Hood Co: Bell TX 76544

Status: Unutilized

Comments: 1133 sq. ft., most recent use—shower, off-site use only

Bldgs. 56703, 56708

Property Number: 21200220152

Fort Hood

Ft. Hood Co: Bell TX 76544

Status: Unutilized

Comments: 1306 sq. ft., most recent use—shower, off-site use only

Bldg. 56758

Property Number: 21200220154

Fort Hood

Ft. Hood Co: Bell TX 76544

Status: Unutilized

Comments: 1133 sq. ft., most recent use—shower, off-site use only

Bldgs. P6220, P6222

Property Number: 21200330197

Fort Sam Houston

Camp Bullis

San Antonio Co: Bexar TX

Status: Unutilized

Comments: 384 sq. ft., most recent use—carport/storage, off-site use only

Bldgs. P6224, P6226

Property Number: 21200330198

Fort Sam Houston

Camp Bullis

San Antonio Co: Bexar TX

Status: Unutilized

Comments: 384 sq. ft., most recent use—carport/storage, off-site use only

Bldg. 92039

Property Number: 21200640101

Fort Hood

Ft. Hood Co: Bell TX 76544

Status: Excess

Comments: 80 sq. ft., most recent use—storage, off-site use only

Bldgs. 04281, 04283

Property Number: 21200720085

Fort Hood

Bell TX 76544

Status: Excess

Comments: 4000/8020 sq. ft., most recent use—storage shed, off-site use only

Bldg. 04284

Property Number: 21200720086

Fort Hood

Bell TX 76544

Status: Excess

Comments: 800 sq. ft., presence of asbestos, most recent use—storage shed, off-site use only

Bldg. 04285

Property Number: 21200720087

Fort Hood

Bell TX 76544

Status: Excess

Comments: 8000 sq. ft., most recent use—storage shed, off-site use only

Bldg. 04286

Property Number: 21200720088

Fort Hood

Bell TX 76544

Status: Excess

Comments: 36,000 sq. ft., presence of asbestos, most recent use—storage shed, off-site use only

Bldg. 04291

Property Number: 21200720089

Fort Hood

Bell TX 76544

Status: Excess

Comments: 6400 sq. ft., presence of asbestos, most recent use—storage shed, off-site use only

Bldg. 4410

Property Number: 21200720090

Fort Hood

Bell TX 76544

Status: Excess

Comments: 12,956 sq. ft., presence of asbestos, most recent use—simulation center, off-site use only

Bldgs. 10031, 10032, 10033

Property Number: 21200720091

Fort Hood

Bell TX 76544

Status: Excess

Comments: 2578/3383 sq. ft., presence of asbestos, most recent use—admin., off-site use only

Bldgs. 56524, 56532

Property Number: 21200720092

Fort Hood

Bell TX 76544

Status: Excess

Comments: 600 sq. ft., presence of asbestos, most recent use—dining, off-site use only

Bldg. 56435

Property Number: 21200720093

Fort Hood

Bell TX 76544

Status: Excess

Comments: 3441 sq. ft., presence of asbestos, most recent use—barracks, off-site use only

Bldg. 05708

Property Number: 21200720094

Fort Hood

Bell TX 76544

Status: Excess

Comments: 1344 sq. ft., most recent use—community center, off-site use only

Bldg. 90001

Property Number: 21200720095

Fort Hood

Bell TX 76544

Status: Excess

Comments: 3574 sq. ft., presence of asbestos, most recent use—transmitter bldg., off-site use only

Bldg. 93013

Property Number: 21200720099

Fort Hood

Bell TX 76544

Status: Excess

Comments: 800 sq. ft., most recent use—club, off-site use only

5 Bldgs.

Property Number: 21200740195

Fort Hood

Bell TX 76544

Location: 56541, 56546, 56547, 56548, 56638

Status: Excess

Comments: 1120/1133 sq. ft., presence of asbestos, most recent use—lavatory, off-site use only

4 Bldgs.

Property Number: 21200810048

Fort Hood

Bell TX 76544

Location: 00229, 00230, 00231, 00232

Status: Unutilized

Comments: Various sq. ft., presence of asbestos, most recent use—training aids center, off-site use only

Bldg. 00324

Property Number: 21200810049

Fort Hood

Bell TX 76544

Status: Unutilized

Comments: 13,319 sq. ft., most recent use—roller skating rink, off-site use only

Bldgs. 00710, 00739, 00741

Property Number: 21200810050

Fort Hood

Bell TX 76544

Status: Unutilized

Comments: Various sq. ft., presence of asbestos, most recent use—repair shop, off-site use only

5 Bldgs.

Property Number: 21200810051

Fort Hood

Bell TX 76544

Location: 00711, 00712, 02219, 02612, 05780

Status: Unutilized

Comments: Various sq. ft., presence of asbestos, most recent use—storage, off-site use only

Bldg. 00713

Property Number: 21200810052

Fort Hood

Bell TX 76544

Status: Unutilized

Comments: 3200 sq. ft., presence of asbestos, most recent use—hdqts. bldg., off-site use only

Bldgs. 1938, 04229

Property Number: 21200810053

Fort Hood

Bell TX 76544

Status: Unutilized

Comments: 2736/9000 sq. ft., presence of asbestos, most recent use—admin., off-site use only

Bldgs. 02218, 02220

Property Number: 21200810054

Fort Hood

Bell TX 76544

Status: Unutilized

Comments: 7289/1456 sq. ft., presence of asbestos, most recent use—museum, off-site use only

Bldg. 0350

Property Number: 21200810055

Fort Hood

Bell TX 76544

Status: Unutilized

Comments: 28,290 sq. ft., presence of asbestos, most recent use—veh. maint. shop, off-site use only

Bldg. 04449

Property Number: 21200810056

Fort Hood

Bell TX 76544

Status: Unutilized

Comments: 3822 sq. ft., most recent use—police station, off-site use only

Bldg. 91077

Property Number: 21200810057

Fort Hood

Bell TX 76544

Status: Unutilized

Comments: 3200 sq. ft., presence of asbestos, most recent use—educational facility, off-site use only

Bldg. 1610

Property Number: 21200810059

Fort Bliss

El Paso TX 79916

Status: Excess

Comments: 11056 sq. ft., concrete/stucco, most recent use—gas station/store, off-site use only

Bldg. 1680

Property Number: 21200810060

Fort Bliss

El Paso TX 79916

Status: Excess

Comments: 3690 sq. ft., concrete/stucco, most recent use—restaurant, off-site use only

12 Bldgs.

Property Number: 21200820153

Fort Hood

Ft. Hood TX 76544

Location: 56522, 56523, 56525, 56533, 56534, 56535, 56539, 56542, 56543, 56544, 56545, 56549

Status: Excess

Comments: 600/607 sq. ft., presence of asbestos, most recent use—dining, off-site use only

10 Bldgs.

Property Number: 21200820154

Fort Hood

Ft. Hood TX 76544

Location: 56622, 56623, 56624, 56625, 56629, 56632, 56633, 56634, 56635, 56639

Status: Excess

Comments: 500/507 sq. ft., presence of asbestos, most recent use—dining, off-site use only

6 Bldgs.

Property Number: 21200840070

Fort Hood

Bell TX 76544

Location: 56412, 57023, 57024, 57025, 57009, 57010

Status: Excess

Comments: Presence of asbestos, most recent use—storage, off-site use only

9 Bldgs.

Property Number: 21200840071

Fort Hood

Bell TX 76544

Location: 56529, 56618, 56702, 56710, 56752, 56753, 56754, 56755, 56759

Status: Excess

Comments: Presence of asbestos, most recent use—dining facility, off-site use only

Bldgs. 56703

Property Number: 21200840072

Fort Hood

Bell TX 76544

Status: Excess

Comments: 1306 sq. ft., presence of asbestos, most recent use—shower, off-site use only

Bldg. 57005

Property Number: 21200840073

Fort Hood

Bell TX 76544

Status: Excess

Comments: 500 sq. ft., presence of asbestos, most recent use—water supply/treatment, off-site use only

Land

1 acre

Property Number: 21200440075

Fort Sam Houston

San Antonio Co: Bexar TX 78234

Status: Excess

Comments: 1 acre, grassy area

GSA

Building

FAA Outermarker

Property Number: 54201040019

13418 Kuykendahl Rd

Houston TX 77090

Status: Surplus

Comments: 48 sq. ft, construction/alteration prohibited unless a determination of no hazard to air navigation is issued by the FAA, restrictions imposed by ordinances of the city of Houston, possible abestos/PCBs

GSA Number: 7-U-TX-1128

Land

FAA Outermarker

Property Number: 54201040002

Rt. 156/Rt. 407

Justin TX 76247

Status: Surplus

Comments: 0.38 acre, FAA restrictions

GSA Number: 7-U-TX-1127

VA

Land

Property Number: 97199010079

Olin E. Teague Veterans Center

1901 South 1st Street

Temple Co: Bell TX 76504

Status: Underutilized

Comments: 13 acres, portion formerly landfill, portion near flammable materials, railroad crosses property, potential utilities.

Utah

Army

Building

Bldg. 00001

Property Number: 21200740196

Borgstrom Hall USARC

Ogden UT 84401

Status: Excess

Comments: 16543 sq. ft., most recent use—training center, off-site use only

Bldg. 00002

Property Number: 21200740197

Borgstrom Hall USARC

Ogden UT 84401

Status: Excess

Comments: 3842 sq. ft., most recent use—vehicle maint. shop, off-site use only

Bldg. 00005

Property Number: 21200740198

Borgstrom Hall USARC

Ogden UT 84401

Status: Excess

Comments: 96 sq. ft., most recent use—storage, off-site use only

Virginia

Fort Story

Property Number: 21200720065

Ft. Story VA 23459

Status: Unutilized

Comments: 525 sq. ft., most recent use—power plant, off-site use only

Bldg. 01633

Property Number: 21200720076

Fort Eustis

Ft. Eustis VA 23604

Status: Unutilized

Comments: 240 sq. ft., most recent use—storage, off-site use only

Bldg. 02786

Property Number: 21200720084

Fort Eustis

Ft. Eustis VA 23604

Status: Unutilized

Comments: 1596 sq. ft., most recent use—admin., off-site use only

Bldg. P0838

Property Number: 21200830005

Fort Eustis

Ft. Eustis VA 23604

Status: Unutilized

Comments: 576 sq. ft., most recent use—rec shelter, off-site use only

Interior

Tract 05-151, Qtrs. 11

Property Number: 61201040001

National Park Service

Spotsylvania VA 22553

Status: Excess

Comments: 1642 sq. ft., off-site use only

Washington

Army

Bldg. CO909, Fort Lewis

Property Number: 21199630205

Ft. Lewis Co: Pierce WA 98433-9500

Status: Unutilized

Comments: 1984 sq. ft., possible asbestos/lead paint, most recent use—admin., off-site use only

Bldg. 1164, Fort Lewis

Property Number: 21199630213

Ft. Lewis Co: Pierce WA 98433-9500

Status: Unutilized

Comments: 230 sq. ft., possible asbestos/lead paint, most recent use—storehouse, off-site use only

Bldg. 1307, Fort Lewis

Property Number: 21199630216

Ft. Lewis Co: Pierce WA 98433-9500

Status: Unutilized

Comments: 1092 sq. ft., possible asbestos/lead paint, most recent use—storage, off-site use only

Bldg. 1309, Fort Lewis

Property Number: 21199630217

Ft. Lewis Co: Pierce WA 98433-9500

Status: Unutilized

Comments: 1092 sq. ft., possible asbestos/lead paint, most recent use—storage, off-site use only

Bldg. 2167, Fort Lewis

Property Number: 21199630218

Ft. Lewis Co: Pierce WA 98433-9500

Status: Unutilized

Comments: 288 sq. ft., possible asbestos/lead paint, most recent use—warehouse, off-site use only

Bldg. 4078, Fort Lewis

Property Number: 21199630219

Ft. Lewis Co: Pierce WA 98433-9500

Status: Unutilized

Comments: 10200 sq. ft., needs rehab, possible asbestos/lead paint, most recent use—warehouse, off-site use only

Bldg. 9599, Fort Lewis

Property Number: 21199630220

Ft. Lewis Co: Pierce WA 98433-9500

Status: Unutilized

Comments: 12366 sq. ft., possible asbestos/lead paint, most recent use—warehouse, off-site use only

Bldg. A1404, Fort Lewis

Property Number: 21199640570

Ft. Lewis Co: Pierce WA 98433

Status: Unutilized

Comments: 557 sq. ft., needs rehab, most recent use—storage, off-site use only

Bldg. EO347

Property Number: 21199710156

Fort Lewis

Ft. Lewis Co: Pierce WA 98433

Status: Unutilized

Comments: 1800 sq. ft., possible asbestos/lead paint, most recent use—office, off-site use only

Bldg. B1008, Fort Lewis

Property Number: 21199720216

Ft. Lewis Co: Pierce WA 98433

Status: Unutilized

Comments: 7387 sq. ft., 2-story, needs rehab, possible asbestos/lead paint, most recent use—medical clinic, off-site use only

Bldgs. CO509, CO709, CO720

Property Number: 21199810372

Fort Lewis

Ft. Lewis Co: Pierce WA 98433

Status: Unutilized

Comments: 1984 sq. ft., possible asbestos/lead paint, needs rehab, most recent use—storage, off-site use only

Bldg. 5162

Property Number: 21199830419

Fort Lewis

Ft. Lewis Co: Pierce WA 98433

Status: Unutilized

Comments: 2360 sq. ft., needs repair, presence of asbestos/lead paint, most recent use—office, off-site use only

Bldg. 5224

Property Number: 21199830433

Fort Lewis

Ft. Lewis Co: Pierce WA 98433

Status: Unutilized

Comments: 2360 sq. ft., needs repair, presence of asbestos/lead paint, most recent use—educ. fac., off-site use only

Bldg. U001B

Property Number: 21199920237

Fort Lewis

Ft. Lewis Co: Pierce WA 98433

Status: Excess

Comments: 54 sq. ft., needs repair, presence of asbestos/lead paint, most recent use—control tower, off-site use only

Bldg. U001C

Property Number: 21199920238

Fort Lewis

Ft. Lewis Co: Pierce WA 98433

Status: Unutilized

Comments: 960 sq. ft., needs repair, presence of asbestos/lead paint, most recent use—supply, off-site use only

10 Bldgs.

Property Number: 21199920239

Fort Lewis

Ft. Lewis Co: Pierce WA 98433

Location: U002B, U002C, U005C, U015I, U016E, U019C, U022A, U028B, 0091A, U093C

Status: Excess

Comments: 600 sq. ft., needs repair, presence of asbestos/lead paint, most recent use—range house, off-site use only

6 Bldgs.

Property Number: 21199920240

Fort Lewis

Ft. Lewis Co: Pierce WA 98433

Location: U003A, U004B, U006C, U015B, U016B, U019B

Status: Unutilized

Comments: 54 sq. ft., needs repair, presence of asbestos/lead paint, most recent use—control tower, off-site use only

Bldg. U004D

Property Number: 21199920241

Fort Lewis

Ft. Lewis Co: Pierce WA 98433

Status: Unutilized

Comments: 960 sq. ft., needs repair, presence of asbestos/lead paint, most recent use—supply, off-site use only

Bldg. U005A

Property Number: 21199920242

Fort Lewis

Ft. Lewis Co: Pierce WA 98433

Status: Unutilized

Comments: 360 sq. ft., needs repair, presence of asbestos/lead paint, most recent use—control tower, off-site use only

7 Bldgs.

Property Number: 21199920245

Fort Lewis

Ft. Lewis Co: Pierce WA 98433

Location: U014A, U022B, U023A, U043B, U059B, U060A, U101A

Status: Excess

Comments: Needs repair, presence of asbestos/lead paint, most recent use—ofc/tower/support, off-site use only

Bldg. U015J

Property Number: 21199920246

Fort Lewis

Ft. Lewis Co: Pierce WA 98433

Status: Excess

Comments: 144 sq. ft., needs repair, presence of asbestos/lead paint, most recent use—tower, off-site use only

Bldg. U018B

Property Number: 21199920247

Fort Lewis

Ft. Lewis Co: Pierce WA 98433

Status: Unutilized

Comments: 121 sq. ft., needs repair, presence of asbestos/lead paint, most recent use—range house, off-site use only

Bldg. U018C

Property Number: 21199920248

Fort Lewis

Ft. Lewis Co: Pierce WA 98433

Status: Unutilized

Comments: 48 sq. ft., needs repair, presence of asbestos/lead paint, off-site use only

Bldg. U024D

Property Number: 21199920250

Fort Lewis

Ft. Lewis Co: Pierce WA 98433

Status: Unutilized

Comments: 120 sq. ft., needs repair, presence of asbestos/lead paint, most recent use—ammo bldg., off-site use only

Bldg. U027A

Property Number: 21199920251

Fort Lewis

Ft. Lewis Co: Pierce WA

Status: Excess

Comments: 64 sq. ft., needs repair, presence of asbestos/lead paint, most recent use—tire house, off-site use only

Bldg. U031A

Property Number: 21199920253

Fort Lewis

Ft. Lewis Co: Pierce WA 98433

Status: Excess

Comments: 3456 sq. ft., needs repair, presence of asbestos/lead paint, most recent use—line shed, off-site use only

Bldg. U031C

Property Number: 21199920254

Fort Lewis

Ft. Lewis Co: Pierce WA 98433

Status: Unutilized

Comments: 32 sq. ft., needs repair, presence of asbestos/lead paint, off-site use only

Bldg. U040D

Property Number: 21199920255

Fort Lewis

Ft. Lewis Co: Pierce WA 98433

Status: Excess

Comments: 800 sq. ft., needs repair, presence of asbestos/lead paint, most recent use—range house, off-site use only

Bldgs. U052C, U052H

Property Number: 21199920256

Fort Lewis

Ft. Lewis Co: Pierce WA 98433

Status: Excess

Comments: Various sq. ft., needs repair, presence of asbestos/lead paint, most recent use—range house, off-site use only

Bldgs. U035A, U035B

Property Number: 21199920257

Fort Lewis

Ft. Lewis Co: Pierce WA 98433

Status: Excess

Comments: 192 sq. ft., needs repair, presence of asbestos/lead paint, most recent use—shelter, offsite use only

Bldg. U035C

Property Number: 21199920258

Fort Lewis

Ft. Lewis Co: Pierce WA 98433

Status: Excess

Comments: 242 sq. ft., needs repair, presence of asbestos/lead paint, most recent use—range house, off-site use only

Bldg. U039A

Property Number: 21199920259

Fort Lewis

Ft. Lewis Co: Pierce WA 98433

Status: Excess

Comments: 36 sq. ft., needs repair, presence of asbestos/lead paint, most recent use—control tower, off-site use only

Bldg. U039B

Property Number: 21199920260

Fort Lewis

Ft. Lewis Co: Pierce WA 98433

Status: Excess

Comments: 1600 sq. ft., needs repair, presence of asbestos/lead paint, most recent use—grandstand/bleachers, off-site use only

Bldg. U039C

Property Number: 21199920261

Fort Lewis

Ft. Lewis Co: Pierce WA 98433

Status: Excess

Comments: 600 sq. ft., needs repair, presence of asbestos/lead paint, most recent use—support, off-site use only

Bldg. U043A

Property Number: 21199920262

Fort Lewis

Ft. Lewis Co: Pierce WA 98433

Status: Excess

Comments: 132 sq. ft., needs repair, presence of asbestos/lead paint, most recent use—range house, off-site use only

Bldg. U052A

Property Number: 21199920263

Fort Lewis

Ft. Lewis Co: Pierce WA 98433

Status: Excess

Comments: 69 sq. ft., needs repair, presence of asbestos/lead paint, most recent use—tower, offsite use only

Bldg. U052E

Property Number: 21199920264

Fort Lewis

Ft. Lewis Co: Pierce WA 98433

Status: Excess

Comments: 600 sq. ft., needs repair, presence of asbestos/lead paint, most recent use—storage, off-site use only

Bldg. U052G

Property Number: 21199920265

Fort Lewis

Ft. Lewis Co: Pierce WA 98433

Status: Excess

Comments: 1600 sq. ft., needs repair, presence of asbestos/lead paint, most recent use—shelter, off-site use only

3 Bldgs.

Property Number: 21199920266

Fort Lewis

Ft. Lewis Co: Pierce WA 98433

Location: U058A, U103A, U018A

Status: Excess

Comments: 36 sq. ft., needs repair, presence of asbestos/lead paint, most recent use—control tower, off-site use only

Bldg. U059A

Property Number: 21199920267

Fort Lewis

Ft. Lewis Co: Pierce WA 98433

Status: Excess

Comments: 16 sq. ft., needs repair, presence of asbestos/lead paint, most recent use—tower, offsite use only

Bldg. U093B

Property Number: 21199920268

Fort Lewis

Ft. Lewis Co: Pierce WA 98433

Status: Excess

Comments: 680 sq. ft., needs repair, presence of asbestos/lead paint, most recent use—range house, off-site use only

4 Bldgs.

Property Number: 21199920269

Fort Lewis

Ft. Lewis Co: Pierce WA 98433

Location: U101B, U101C, U507B, U557A

Status: Excess

Comments: 400 sq. ft., needs repair, presence of asbestos/lead paint, off-site use only

Bldg. U110B

Property Number: 21199920272

Fort Lewis

Ft. Lewis Co: Pierce WA 98433

Status: Excess

Comments: 138 sq. ft., needs repair, presence of asbestos/lead paint, most recent use—support, off-site use only

6 Bldgs.

Property Number: 21199920273

Fort Lewis

Ft. Lewis Co: Pierce WA 98433

Location: U111A, U015A, U024E, U052F, U109A, U110A

Status: Excess

Comments: 1000 sq. ft., needs repair, presence of asbestos/lead paint, most recent use—support/shelter/mess, off-site use only

Bldg. U112A

Property Number: 21199920274

Fort Lewis

Ft. Lewis Co: Pierce WA 98433

Status: Excess

Comments: 1600 sq. ft., needs repair, presence of asbestos/lead paint, most recent use—shelter, off-site use only

Bldg. U115A

Property Number: 21199920275

Fort Lewis

Ft. Lewis Co: Pierce WA 98433

Status: Excess

Comments: 36 sq. ft., needs repair, presence of asbestos/lead paint, most recent use—tower, offsite use only

Bldg. U507A

Property Number: 21199920276

Fort Lewis

Ft. Lewis Co: Pierce WA 98433

Status: Excess

Comments: 400 sq. ft., needs repair, presence of asbestos/lead paint, most recent use—support, off-site use only

Bldg. C0120

Property Number: 21199920281

Fort Lewis

Ft. Lewis Co: Pierce WA 98433

Status: Excess

Comments: 384 sq. ft., needs repair, presence of asbestos/lead paint, most recent use—scale house, off-site use only

Bldg. 01205

Property Number: 21199920290

Fort Lewis

Ft. Lewis Co: Pierce WA 98433

Status: Excess

Comments: 87 sq. ft., needs repair, presence of asbestos/lead paint, most recent use—storehouse, off-site use only

Bldg. 01259

Property Number: 21199920291

Fort Lewis

Ft. Lewis Co: Pierce WA 98433

Status: Excess

Comments: 16 sq. ft., needs repair, presence of asbestos/lead paint, most recent use—storage, offsite use only

Bldg. 01266

Property Number: 21199920292

Fort Lewis

Ft. Lewis Co: Pierce WA 98433

Status: Excess

Comments: 45 sq. ft., needs repair, presence of asbestos/lead paint, most recent use—shelter, offsite use only

Bldg. 1445

Property Number: 21199920294

Fort Lewis

Ft. Lewis Co: Pierce WA 98433

Status: Excess

Comments: 144 sq. ft., needs repair, presence of asbestos/lead paint, most recent use—generator bldg., off-site use only

Bldgs. 03091, 03099

Property Number: 21199920296

Fort Lewis

Ft. Lewis Co: Pierce WA 98433

Status: Excess

Comments: various sq. ft., needs repair, presence of asbestos/lead paint, most recent use—sentry station, off-site use only

Bldg. 4040

Property Number: 21199920298

Fort Lewis

Ft. Lewis Co: Pierce WA 98433

Status: Excess

Comments: 8326 sq. ft., needs repair, presence of asbestos/lead paint, most recent use—shed, offsite use only

Bldgs. 4072, 5104

Property Number: 21199920299

Fort Lewis

Ft. Lewis Co: Pierce WA 98433

Status: Excess

Comments: 24/36 sq. ft., needs repair, presence of asbestos/lead paint, off-site use only

Bldg. 4295

Property Number: 21199920300

Fort Lewis

Ft. Lewis Co: Pierce WA 98433

Status: Excess

Comments: 48 sq. ft., needs repair, presence of asbestos/lead paint, most recent use—storage, offsite use only

Bldg. 6191

Property Number: 21199920303

Fort Lewis

Ft. Lewis Co: Pierce WA 98433

Status: Excess

Comments: 3663 sq. ft., needs repair, presence of asbestos/lead paint, most recent use—exchange branch, off-site use only

Bldgs. 08076, 08080

Property Number: 21199920304

Fort Lewis

Ft. Lewis Co: Pierce WA 98433

Status: Excess

Comments: 3660/412 sq. ft., needs repair, presence of asbestos/lead paint, off-site use only

Bldg. 08093

Property Number: 21199920305

Fort Lewis

Ft. Lewis Co: Pierce WA 98433

Status: Excess

Comments: 289 sq. ft., needs repair, presence of asbestos/lead paint, most recent use—boat storage, off-site use only

Bldg. 8279

Property Number: 21199920306

Fort Lewis

Ft. Lewis Co: Pierce WA 98433

Status: Excess

Comments: 210 sq. ft., needs repair, presence of asbestos/lead paint, most recent use—fuel disp. fac., off-site use only

Bldgs. 8280, 8291

Property Number: 21199920307

Fort Lewis

Ft. Lewis Co: Pierce WA 98433

Status: Excess

Comments: 800/464 sq. ft., needs repair, presence of asbestos/lead paint, most recent use—storage, off-site use only

Bldg. 8956

Property Number: 21199920308

Fort Lewis

Ft. Lewis Co: Pierce WA 98433

Status: Excess

Comments: 100 sq. ft., needs repair, presence of asbestos/lead paint, most recent use—storage, off-site use only

Bldg. 9530

Property Number: 21199920309

Fort Lewis

Ft. Lewis Co: Pierce WA 98433

Status: Excess

Comments: 64 sq. ft., needs repair, presence of asbestos/lead paint, most recent use—sentry station, off-site use only

Bldg. 9574

Property Number: 21199920310

Fort Lewis

Ft. Lewis Co: Pierce WA 98433

Status: Excess

Comments: 6005 sq. ft., needs repair, presence of asbestos/lead paint, most recent use—veh. shop., off-site use only

Bldg. 9596

Property Number: 21199920311

Fort Lewis

Ft. Lewis Co: Pierce WA 98433

Status: Excess

Comments: 36 sq. ft., needs repair, presence of asbestos/lead paint, most recent use—gas station, off-site use only

West Virginia

COE

Bldg. WIN-01-S-09

Property Number: 31201030006

Winfield Locks & Dam

Redhouse WV 25168

Status: Unutilized

Comments: 1872 sq. ft., most recent use—storage, off-site use only

Wisconsin

VA

Land

VA Medical Center

Property Number: 97199010054

County Highway E

Tomah Co: Monroe WI 54660

Status: Underutilized

Comments: 12.4 acres, serves as buffer between center and private property, no utilities.

TITLE V PROPERTIES REPORTED IN YEAR 2010 WHICH ARE SUITABLE AND UNAVAILABLE

Alabama

Army

Building

Bldg. 01433

Property Number: 21200220098

Fort Rucker

Ft. Rucker Co: Dale AL 36362

Status: Excess

Reason: being utilized

Bldg. 30105

Property Number: 21200510052

Fort Rucker

Ft. Rucker Co: Dale AL 36362

Status: Excess

Reason: occupied

Bldg. 40115

Property Number: 21200510053

Fort Rucker

Ft. Rucker Co: Dale AL 36362

Status: Excess

Reason: occupied

Bldg. 25303

Property Number: 21200520074

Fort Rucker

Dale AL 36362

Status: Excess

Reason: occupied

Bldg. 25304

Property Number: 21200520075

Fort Rucker

Dale AL 36362

Status: Excess

Reason: occupied

Alaska

GSA

Salmonberry Qtrs.

Property Number: 54200940001

157 Salmonberry

Bethel AK 99559

Status: Excess

GSA Number: 9-U-AK-825

Reason: expression of interest

Dalton-Cache Border Station

Property Number: 54201010019

Mile 42 Haines Highway

Haines AK 99827

Status: Excess

GSA Number: 9-G-AK-0833

Reason: advertised for sale

Arizona

Army

Bldg. 22529

Property Number: 21200520077

Fort Huachuca

Cochise AZ 85613-7010

Status: Excess

Reason: occupied

Bldg. 22541

Property Number: 21200520078

Fort Huachuca

Cochise AZ 85613-7010

Status: Excess

Reason: occupied

Bldg. 30020

Property Number: 21200520079

Fort Huachuca

Cochise AZ 85613-7010

Status: Excess

Reason: occupied

Bldg. 30021

Property Number: 21200520080

Fort Huachuca

Cochise AZ 85613-7010

Status: Excess

Reason: occupied

Bldg. 22040

Property Number: 21200540076

Fort Huachuca

Cochise AZ 85613

Status: Excess

Reason: occupied

Bldg. 22540

Property Number: 21200620067

Fort Huachuca

Cochise AZ 85613-7010

Status: Excess

Reason: occupied

GSA

Land

Salt River Project

Property Number: 54200920001

Pecos/Alma School Road

#USBR-08-020

Chander AZ 85225

Status: Surplus

GSA Number: 9-I-AZ-0850

Reason: expression of interest

0.23 acres

Property Number: 54201010005

87th Ave.

Glendale AZ

Status: Excess

GSA Number: 9-I-AZ-853

Reason: expression of interest

Guadalupe Road Land

Property Number: 54201010012

Ironwood Road

Apache Junction AZ 95971

Status: Surplus

GSA Number: 9-AZ-851-1

Reason: expression of interest

Houston Road Land

Property Number: 54201010013

Ironwood Road

Apache Junction AZ 85278

Status: Surplus

GSA Number: 9-AZ-854

Reason: expression of interest

Land

Property Number: 54201010014

95th Ave/Bethany Home Rd

Glendale AZ 85306

Status: Surplus

GSA Number: 9-AZ-852

Reason: expression of interest

0.30 acre

Property Number: 54201030010

Bethany Home Road

Glendale AZ 85306

Status: Excess

GSA Number: 9-I-AZ-0859

Reason: expression of interest

California

GSA

Building

Defense Fuel Support Pt.

Property Number: 54200810001

Estero Bay Facility

Morro Bay CA 93442

Status: Surplus

GSA Number: 9-N-CA-1606

Reason: sale in progress

Former SSA Bldg.

Property Number: 54201020002

1230 12th Street

Modesto CA 95354

Status: Surplus

GSA Number: 9-G-CA-1610

Reason: Expressions of interest

Quincy Scaling Station

Property Number: 54200930004

1495 E. Main St.

Quincy CA 95971

Status: Surplus

GSA Number: 9-A-CA-1679-1

Reason: expression of interest

Parcel F-2 Right of Way

Property Number: 54201030012

Seal Beach CA 90740

Status: Surplus

GSA Number: 9-N-CA-1508-AI

Reason: expression of interest

Parcel F-4 Right of Way

Property Number: 54201030014

Seal Beach CA

Status: Surplus

GSA Number: 9-N-CA-1508-AK

Reason: expression of interest

Colorado

Army

Bldg. S6264

Property Number: 21200340084

Fort Carson

Ft. Carson Co: El Paso CO 80913

Status: Unutilized

Reason: occupied

Bldg. S6285

Property Number: 21200420176

Fort Carson

Ft. Carson Co: El Paso CO 80913

Status: Unutilized

Reason: in use

Bldg. S6287

Property Number: 21200420177

Fort Carson

Ft. Carson Co: El Paso CO 80913

Status: Unutilized

Reason: in use

Bldg. 06225

Property Number: 21200520084

Fort Carson

El Paso CO 80913-4001

Status: Unutilized

Reason: occupied

Georgia

Bldg. T201

Property Number: 21200420002

Hunter Army Airfield

Garrison Co: Chatham GA 31409

Status: Excess

Reason: in use

Bldg. T234

Property Number: 21200420008

Hunter Army Airfield

Garrison Co: Chatham GA 31409

Status: Excess

Reason: in use

Bldg. T702

Property Number: 21200420010

Hunter Army Airfield

Garrison Co: Chatham GA 31409

Status: Excess

Reason: in use

Bldg. T703

Property Number: 21200420011

Hunter Army Airfield

Garrison Co: Chatham GA 31409

Status: Excess

Reason: in use

Bldg. T704

Property Number: 21200420012

Hunter Army Airfield

Garrison Co: Chatham GA 31409

Status: Excess

Reason: in use

Bldg. P813

Property Number: 21200420013

Hunter Army Airfield

Garrison Co: Chatham GA 31409

Status: Excess

Reason: in use

Bldgs. S843, S844, S845

Property Number: 21200420014

Hunter Army Airfield

Garrison Co: Chatham GA 31409

Status: Excess

Reason: in use

Bldg. P925

Property Number: 21200420015

Hunter Army Airfield

Garrison Co: Chatham GA 31409

Status: Excess

Reason: in use

Bldg. P1277

Property Number: 21200420024

Hunter Army Airfield

Garrison Co: Chatham GA 31409

Status: Excess

Reason: in use

Bldg. T1412

Property Number: 21200420025

Hunter Army Airfield

Garrison Co: Chatham GA 31409

Status: Excess

Reason: in use

Bldg. 8658

Property Number: 21200420029

Hunter Army Airfield

Garrison Co: Chatham GA 31409

Status: Excess

Reason: in use

Bldg. 8659

Property Number: 21200420030

Hunter Army Airfield

Garrison Co: Chatham GA 31409

Status: Excess

Reason: in use

Bldgs. 8675, 8676

Property Number: 21200420031

Hunter Army Airfield

Garrison Co: Chatham GA 31409

Status: Excess

Reason: in use

Bldg. 5978

Property Number: 21200420038

Fort Benning

Ft. Benning Co: Chattachoochee GA 31905

Status: Excess

Reason: in use

Bldg. 5993

Property Number: 21200420041

Fort Benning

Ft. Benning Co: Chattachoochee GA 31905

Status: Excess

Reason: in use

Bldg. 5994

Property Number: 21200420042

Fort Benning

Ft. Benning Co: Chattachoochee GA 31905

Status: Excess

Reason: in use

Bldg. 5995

Property Number: 21200420043

Fort Benning

Ft. Benning Co: Chattachoochee GA 31905

Status: Excess

Reason: in use

Bldg. T01

Property Number: 21200420181

Fort Stewart

Ft. Stewart Co: Liberty GA 31314

Status: Excess

Reason: in use

Bldg. T04

Property Number: 21200420182

Fort Stewart

Ft. Stewart Co: Liberty GA 31314

Status: Excess

Reason: in use

Bldg. T05

Property Number: 21200420183

Fort Stewart

Ft. Stewart Co: Liberty GA 31314

Status: Excess

Reason: in use

Bldg. T06

Property Number: 21200420184

Fort Stewart

Ft. Stewart Co: Liberty GA 31314

Status: Excess

Reason: in use

Bldg. T55

Property Number: 21200420187

Fort Stewart

Ft. Stewart Co: Liberty GA 31314

Status: Excess

Reason: in use

Bldg. T85

Property Number: 21200420188

Fort Stewart

Ft. Stewart Co: Liberty GA 31314

Status: Excess

Reason: in use

Bldg. T131

Property Number: 21200420189

Fort Stewart

Ft. Stewart Co: Liberty GA 31314

Status: Excess

Reason: in use

Bldg. T132

Property Number: 21200420190

Fort Stewart

Ft. Stewart Co: Liberty GA 31314

Status: Excess

Reason: in use

Bldg. T157

Property Number: 21200420191

Fort Stewart

Ft. Stewart Co: Liberty GA 31314

Status: Excess

Reason: in use

Bldg. 01002

Property Number: 21200420197

Fort Stewart

Ft. Stewart Co: Liberty GA 31314

Status: Excess

Reason: in use

Bldg. 01003

Property Number: 21200420198

Fort Stewart

Ft. Stewart Co: Liberty GA 31314

Status: Excess

Reason: in use

Bldg. 19101

Property Number: 21200420215

Fort Stewart

Ft. Stewart Co: Liberty GA 31314

Status: Excess

Reason: in use

Bldg. 19102

Property Number: 21200420216

Fort Stewart

Ft. Stewart Co: Liberty GA 31314

Status: Excess

Reason: in use

Bldg. T19111

Property Number: 21200420217

Fort Stewart

Ft. Stewart Co: Liberty GA 31314

Status: Excess

Reason: in use

Bldg. 19112

Property Number: 21200420218

Fort Stewart

Ft. Stewart Co: Liberty GA 31314

Status: Excess

Reason: in use

Bldg. 19113

Property Number: 21200420219

Fort Stewart

Ft. Stewart Co: Liberty GA 31314

Status: Excess

Reason: in use

Bldg. T19201

Property Number: 21200420220

Fort Stewart

Ft. Stewart Co: Liberty GA 31314

Status: Excess

Reason: in use

Bldg. 19202

Property Number: 21200420221

Fort Stewart

Ft. Stewart Co: Liberty GA 31314

Status: Excess

Reason: in use

Bldg. 19204 thru 19207

Property Number: 21200420222

Fort Stewart

Ft. Stewart Co: Liberty GA 31314

Status: Excess

Reason: in use

Bldgs. 19208 thru 19211

Property Number: 21200420223

Fort Stewart

Ft. Stewart Co: Liberty GA 31314

Status: Excess

Reason: in use

Bldg. 19212

Property Number: 21200420224

Fort Stewart

Ft. Stewart Co: Liberty GA 31314

Status: Excess

Reason: in use

Bldg. 19213

Property Number: 21200420225

Fort Stewart

Ft. Stewart Co: Liberty GA 31314

Status: Excess

Reason: in use

Bldg. 19214

Property Number: 21200420226

Fort Stewart

Ft. Stewart Co: Liberty GA 31314

Status: Excess

Reason: in use

Bldg. 19215

Property Number: 21200420227

Fort Stewart

Ft. Stewart Co: Liberty GA 31314

Status: Excess

Reason: in use

Bldg. 19216

Property Number: 21200420228

Fort Stewart

Ft. Stewart Co: Liberty GA 31314

Status: Excess

Reason: in use

Bldg. 19217

Property Number: 21200420229

Fort Stewart

Ft. Stewart Co: Liberty GA 31314

Status: Excess

Reason: in use

Bldg. 19218

Property Number: 21200420230

Fort Stewart

Ft. Stewart Co: Liberty GA 31314

Status: Excess

Reason: in use

Bldgs. 19219, 19220

Property Number: 21200420231

Fort Stewart

Ft. Stewart Co: Liberty GA 31314

Status: Excess

Reason: in use

Bldg. 19223

Property Number: 21200420232

Fort Stewart

Ft. Stewart Co: Liberty GA 31314

Status: Excess

Reason: in use

Bldg. 19225

Property Number: 21200420233

Fort Stewart

Ft. Stewart Co: Liberty GA 31314

Status: Excess

Reason: in use

Bldg. 19226

Property Number: 21200420234

Fort Stewart

Ft. Stewart Co: Liberty GA 31314

Status: Excess

Reason: in use

Bldg. T19228

Property Number: 21200420235

Fort Stewart

Ft. Stewart Co: Liberty GA 31314

Status: Excess

Reason: in use

Bldg. 19229

Property Number: 21200420236

Fort Stewart

Ft. Stewart Co: Liberty GA 31314

Status: Excess

Reason: in use

Bldg. 19232

Property Number: 21200420237

Fort Stewart

Ft. Stewart Co: Liberty GA 31314

Status: Excess

Reason: in use

Bldg. 19233

Property Number: 21200420238

Fort Stewart

Ft. Stewart Co: Liberty GA 31314

Status: Excess

Reason: in use

Bldg. 19236

Property Number: 21200420239

Fort Stewart

Ft. Stewart Co: Liberty GA 31314

Status: Excess

Reason: in use

Bldg. 19238

Property Number: 21200420240

Fort Stewart

Ft. Stewart Co: Liberty GA 31314

Status: Excess

Reason: in use

Bldg. 01674

Property Number: 21200510056

Fort Benning

Ft. Benning Co: Chattachoochee GA 31905

Status: Unutilized

Reason: occupied

Bldg. 01675

Property Number: 21200510057

Fort Benning

Ft. Benning Co: Chattachoochee GA 31905

Status: Unutilized

Reason: occupied

Bldg. 01676

Property Number: 21200510058

Fort Benning

Ft. Benning Co: Chattachoochee GA 31905

Status: Unutilized

Reason: occupied

Bldg. 01677

Property Number: 21200510059

Fort Benning

Ft. Benning GA 31905

Status: Unutilized

Reason: occupied

Bldg. 01678

Property Number: 21200510060

Fort Benning

Ft. Benning Co: Chattachoochee GA 31905

Status: Unutilized

Reason: occupied

Bldg. 00051

Property Number: 21200520087

Fort Stewart

Liberty GA 31314

Status: Excess

Reason: occupied

Bldg. 00052

Property Number: 21200520088

Fort Stewart

Liberty GA 31314

Status: Excess

Reason: occupied

Bldg. 00053

Property Number: 21200520089

Fort Stewart

Liberty GA 31314

Status: Excess

Reason: occupied

Bldg. 00054

Property Number: 21200520090

Fort Stewart

Liberty GA 31314

Status: Excess

Reason: occupied

Bldg. 01243

Property Number: 21200610040

Hunter Army Airfield

Savannah Co: Chatham GA 31409

Status: Excess

Reason: occupied

Bldg. 01244

Property Number: 21200610041

Hunter Army Airfield

Savannah Co: Chatham GA 31409

Status: Excess

Reason: occupied

Bldg. 01318

Property Number: 21200610042

Hunter Army Airfield

Savannah Co: Chatham GA 31409

Status: Excess

Reason: occupied

Bldg. 00612

Property Number: 21200610043

Fort Stewart

Liberty GA 31314

Status: Excess

Reason: occupied

Bldg. 00614

Property Number: 21200610044

Fort Stewart

Liberty GA 31314

Status: Excess

Reason: occupied

Bldg. 00618

Property Number: 21200610045

Fort Stewart

Liberty GA 31314

Status: Excess

Reason: occupied

Bldg. 00628

Property Number: 21200610046

Fort Stewart

Liberty GA 31314

Status: Excess

Reason: occupied

Bldg. 01079

Property Number: 21200610047

Fort Stewart

Liberty GA 31314

Status: Excess

Reason: occupied

Bldg. 07901

Property Number: 21200610049

Fort Stewart

Liberty GA 31314

Status: Excess

Reason: occupied

Bldg. 08031

Property Number: 21200610050

Fort Stewart

Liberty GA 31314

Status: Excess

Reason: occupied

Bldg. 08081

Property Number: 21200610052

Fort Stewart

Liberty GA 31314

Status: Excess

Reason: occupied

Bldg. 08252

Property Number: 21200610053

Fort Stewart

Liberty GA 31314

Status: Excess

Reason: occupied

GSA

Ft. Benning Railroad Corridor

Property Number: 54201030006

Cusseta Road

Columbus GA 31401

Status: Excess

GSA Number: 4-D-GA-0518AD

Reason: conveyence pending

Hawaii

Navy

Land

Property Record 1-11032

Property Number: 77201040011

Naval Station

Pearl Harbor HI 96818

Status: Unutilized

Reason: leased

Illinois

COE

Building

Bldg. 7

Property Number: 31199010001

Ohio River Locks No. 53

Grand Chain Co: Pulaski IL 62941-9801

Status: Unutilized

Reason: project integrity and security; safety liability

Bldg. 6

Property Number: 31199010002

Ohio River Locks No. 53

Grand Chain Co: Pulaski IL 62941-9801

Status: Unutilized

Reason: project integrity and security; safety liability

Bldg. 5

Property Number: 31199010003

Ohio River Locks No. 53

Grand Chain Co: Pulaski IL 62941-9801

Status: Unutilized

Reason: project integrity and security; safety liability

Bldg. 4

Property Number: 31199010004

Ohio River Locks No. 53

Grand Chain Co: Pulaski IL 62941-9801

Status: Unutilized

Reason: project integrity and security; safety liability

Bldg. 3 Property Number: 31199010005

Ohio River Locks No. 53

Grand Chain Co: Pulaski IL 62941-9801

Status: Unutilized

Reason: project integrity and security; safety liability

Bldg. 2

Property Number: 31199010006

Ohio River Locks No. 53

Grand Chain Co: Pulaski IL 62941-9801

Status: Unutilized

Reason: project integrity and security; safety liability

Bldg. 1

Property Number: 31199010007

Ohio River Locks No. 53

Grand Chain Co: Pulaski IL 62941-9801

Status: Unutilized

Reason: project integrity and security; safety liability

Iowa

GSA

U.S. Army Reserve

Property Number: 54200920017

620 West 5th St.

Garner IA 50438

Status: Excess

GSA Number: 7-D-IA-0510

Reason: expression of interest

Former SSA Bldg.

Property Number: 54201020005

3012 Division Street

Burlington IA 52601

Status: Excess

GSA Number: 7-G-IA-0508

Reason: advertised for sale

VA

Land

38 acres

Property Number: 97199740001

VA Medical Center

1515 West Pleasant St.

Knoxville Co: Marion IA 50138

Status: Unutilized

Reason: Enhanced-Use Legislation potential

Louisiana

Army

Building

Bldg. T401

Property Number: 21200540084

Fort Polk

Ft. Polk LA 71459

Status: Unutilized

Reason: occupied

Bldgs. T406, T407, T411

Property Number: 21200540085

Fort Polk

Ft. Polk LA 71459

Status: Unutilized

Reason: occupied

Bldg. T412

Property Number: 21200540086

Fort Polk

Ft. Polk LA 71459

Status: Unutilized

Reason: occupied

Bldgs. T414, T421

Property Number: 21200540087

Fort Polk

Ft. Polk LA 71459

Status: Unutilized

Reason: occupied

GSA

FAA Outermarker

Property Number: 54201030007

St. Charles Parish

New Orleans LA 70094

Status: Excess

GSA Number: 7-U-LA-574-1

Reason: advertised for sale

Maryland

Army

Bldg. 8608

Property Number: 21200410099

Fort George G. Meade

Ft. Meade MD 20755-5115

Status: Unutilized

Reason: occupied

Bldg. 8612

Property Number: 21200410101

Fort George G. Meade

Ft. Meade MD 20755-5115

Status: Unutilized

Reason: occupied

Bldg. 0001A

Property Number: 21200520114

Federal Support Center

Olney Co: Montgomery MD 20882

Status: Unutilized

Reason: occupied

Bldg. 0001C

Property Number: 21200520115

Federal Support Center

Olney Co: Montgomery MD 20882

Status: Unutilized

Reason: occupied

Bldgs. 00032, 00H14, 00H24

Property Number: 21200520116

Federal Support Center

Olney Co: Montgomery MD 20882

Status: Unutilized

Reason: occupied

Bldgs. 00034, 00H016

Property Number: 21200520117

Federal Support Center

Olney Co: Montgomery MD 20882

Status: Unutilized

Reason: occupied

Bldgs. 00H10, 00H12

Property Number: 21200520118

Federal Support Center

Olney Co: Montgomery MD 20882

Status: Unutilized

Reason: occupied

GSA

Appraisers Store

Property Number: 54201030016

Baltimore MD 21202

Status: Excess

GSA Number: 4-G-MD-0623

Reason: expression of interest

Massachusetts

Land

FAA Site

Property Number: 54200830026

Massasoit Bridge Rd.

Nantucket MA 02554

Status: Surplus

GSA Number: MA-0895

Reason: expression of interest

Michigan

Army

Building

Bldg. 00001

Property Number: 21200510066

Sheridan Hall USARC

501 Euclid Avenue

Helena Co: Lewis MI 59601-2865

Status: Unutilized

Reason: Federal interest

GSA

Social Security Bldg.

Property Number: 54200720020

929 Stevens Road

Flint MI 48503

Status: Excess

GSA Number: 1-G-MI-822

Reason: expression of interest

CPT George S. Crabbe USARC

Property Number: 54201030018

2901 Webber Street

Saginaw MI

Status: Excess

GSA Number: 1-D-MI-835

Reason: expression of interest

Land

Former Elf Comm. Facility

Property Number: 54200840012

3041 County Road

Republic MI 49879

Status: Excess

GSA Number: 1-N-MI-0827

Reason: conveyance pending

VA

VA Medical Center

Property Number: 97199010015

5500 Armstrong Road

Battle Creek Co: Calhoun MI 49016

Status: Underutilized

Reason: being used for patient and program activities.

Missouri

Army

Building

Bldg. 1230

Property Number: 21200340087

Fort Leonard Wood

Ft. Leonard Wood Co: Pulaski MO 65743-8944

Status: Unutilized

Reason: occupied

Bldg. 1621

Property Number: 21200340088

Fort Leonard Wood

Ft. Leonard Wood Co: Pulaski MO 65743-8944

Status: Unutilized

Reason: occupied

Bldg. 5760

Property Number: 21200410102

Fort Leonard Wood

Ft. Leonard Wood Co: Pulaski MO 65743-8944

Status: Unutilized

Reason: occupied

Bldg. 5762

Property Number: 21200410103

Fort Leonard Wood

Ft. Leonard Wood Co: Pulaski MO 65743-8944

Status: Unutilized

Reason: occupied

Bldg. 5763

Property Number: 21200410104

Fort Leonard Wood

Ft. Leonard Wood Co: Pulaski MO 65743-8944

Status: Unutilized

Reason: occupied

Bldg. 5765

Property Number: 21200410105

Fort Leonard Wood

Ft. Leonard Wood Co: Pulaski MO 65743-8944

Status: Unutilized

Reason: occupied

Bldg. 5760

Property Number: 21200420059

Fort Leonard Wood

Ft. Leonard Wood Co: Pulaski MO 65743-8944

Status: Unutilized

Reason: in use

Bldg. 5762

Property Number: 21200420060

Fort Leonard Wood

Ft. Leonard Wood Co: Pulaski MO 65743-8944

Status: Unutilized

Reason: in use

Bldg. 5763

Property Number: 21200420061

Fort Leonard Wood

Ft. Leonard Wood Co: Pulaski MO 65743-8944

Status: Unutilized

Reason: in use

Bldg. 5765

Property Number: 21200420062

Fort Leonard Wood

Ft. Leonard Wood Co: Pulaski MO 65743-8944

Status: Unutilized

Reason: in use

Bldg. 00467

Property Number: 21200530085

Fort Leonard Wood

Ft. Leonard Wood Co: Pulaski MO 65743

Status: Unutilized

Reason: occupied

GSA

Federal Bldg/Courthouse

Property Number: 54200840013

339 Broadway St.

Cape Girardeau MO 63701

Status: Excess

GSA Number: 7-G-MO-0673

Reason: Expression of interest

Land

Tract LLWAS K3

Property Number: 54200940004

Mexico City Ave.

Kansas City MO 64153

Status: Surplus

GSA Number: 7-U-MO-0687AA

Reason: expression of interest

Montana

VA

Building

VA MT Healthcare

Property Number: 97200030001

210 S. Winchester

Miles City Co: Custer MT 59301

Status: Underutilized

Reason: transfer to Custer County

New Hampshire

GSA

Federal Building

Property Number: 54200920006

719 Main St.

Parcel ID: 424-124-78

Laconia NH 03246

Status: Excess

GSA Number: 1-G-NH-0503

Reason: expression of interest

New Jersey

Camp Petricktown Sup. Facility

Property Number: 54200740005

US Route 130

Pedricktown NJ 08067

Status: Excess

GSA Number: 1-D-NJ-0662

Reason: expression of interest

New York

Army

Bldgs. 1511-1518

Property Number: 21200320160

U.S. Military Academy

Training Area

Highlands Co: Orange NY 10996

Status: Unutilized

Reason: occupied

Bldgs. 1523-1526

Property Number: 21200320161

U.S. Military Academy

Training Area

Highlands Co: Orange NY 10996

Status: Unutilized

Reason: occupied

Bldgs. 1704-1705, 1721-1722

Property Number: 21200320162

U.S. Military Academy

Training Area

Highlands Co: Orange NY 10996

Status: Unutilized

Reason: occupied

Bldg. 1723

Property Number: 21200320163

U.S. Military Academy

Training Area

Highlands Co: Orange NY 10996

Status: Unutilized

Reason: occupied

Bldgs. 1706-1709

Property Number: 21200320164

U.S. Military Academy

Training Area

Highlands Co: Orange NY 10996

Status: Unutilized

Reason: occupied

Bldgs. 1731-1735

Property Number: 21200320165

U.S. Military Academy

Training Area

Highlands Co: Orange NY 10996

Status: Unutilized

Reason: occupied

North Carolina

Bldg. N4116

Property Number: 21200240087

Fort Bragg

Ft. Bragg Co: Cumberland NC 28310

Status: Excess

Reason: mission use

Ohio

COE

Bldg.—Berlin Lake

Property Number: 31199640001

7400 Bedell Road

Berlin Center Co: Mahoning OH 44401-9797

Status: Unutilized

Reason: utilized as construction office

GSA

Oxford USAR Facility

Property Number: 54201010007

6557 Todd Road

Oxford OH 45056

Status: Excess

GSA Number: 1-D-OH-833

Reason: Expression of interest

Belmont Cty Memorial USAR Ctr

Property Number: 54201020008

5305 Guernsey St.

Bellaire OH 43906

Status: Excess

GSA Number: 1-D-OH-837

Reason: conveyance in progress

Army Reserve Center

Property Number: 54201020009

5301 Hauserman Rd.

Parma Co: Cuyahoga OH 44130

Status: Excess

GSA Number: I-D-OH-842

Reason: expression of interest

2LT George F. Pennington USARC

Property Number: 54201020010

2164 Harding Hwy. E.

Marion OH 43302

Status: Excess

GSA Number: I-D-OH-838

Reason: Expression of Interest

VA

Bldg. 116

Property Number: 97199920002

VA Medical Center

Dayton Co: Montgomery OH 45428

Status: Unutilized

Reason: preexisting agreement

Oregon

GSA

3 Bldgs/Land

Property Number: 54200840003

OTHR-B Radar

Cty Rd 514

Christmas Valley OR 97641

Status: Excess

GSA Number: 9-D-OR-0768

Reason: expression of interest

U.S. Customs House

Property Number: 54200840004

220 NW 8th Ave.

Portland OR

Status: Excess

GSA Number: 9-D-OR-0733

Reason: expression of interest

Pennsylvania

COE

Tract 403A

Property Number: 31199430021

Grays Landing Lock Project

Greensboro Co: Greene PA 15338

Status: Unutilized

Reason: to be transferred to Borough

Tract 403B

Property Number: 31199430022

Grays Landing Lock Project

Greensboro Co: Greene PA 15338

Status: Unutilized

Reason: to be transferred to Borough

Tract 403C

Property Number: 31199430023

Grays Landing Lock Project

Greensboro Co: Greene PA 15338

Status: Unutilized

Reason: to be transferred to Borough

Land

East Branch Clarion River Lake

Property Number: 31199011012

Wilcox Co: Elk PA

Status: Underutilized

Reason: location near damsite

Dashields Locks and Dam

Property Number: 31199210009

(Glenwillard, PA)

Crescent Twp. Co: Allegheny PA 15046-0475

Status: Unutilized

Reason: leased to Township

GSA

approx. 16.88

Property Number: 54200820011

271 Sterrettania Rd.

Erie PA 16506

Status: Surplus

GSA Number: 4-D-PA-0810

Reason: advertised for sale

VA

VA Medical Center

Property Number: 97199010016

New Castle Road

Butler Co: Butler PA 16001

Status: Underutilized

Reason: used as natural drainage for facility property.

Land No. 645

Property Number: 97199010080

VA Medical Center

Highland Drive

Pittsburgh Co: Allegheny PA 15206

Status: Unutilized

Reason: property is essential to security and safety of patients.

Land—34.16 acres

Property Number: 97199340001

VA Medical Center

1400 Black Horse Hill Road

Coatesville Co: Chester PA 19320

Status: Underutilized

Reason: needed for mission related functions

South Dakota

Air Force

Tract 133

Property Number: 18200310004

Ellsworth AFB

Box Elder Co: Pennington SD 57706

Status: Unutilized

Reason: special legislation

Tract 67

Property Number: 18200310005

Ellsworth AFB

Box Elder Co: Pennington SD 57706

Status: Unutilized

Reason: mission purpose

Tennessee

GSA

Building

NOAA Admin. Bldg.

Property Number: 54200920015

456 S. Illinois Ave.

Oak Ridge TN 38730

Status: Excess

GSA Number: 4-B-TN-0664-AA

Reason: Federal interest

Texas

Army

Bldgs. 4219, 4227

Property Number: 21200220139

Fort Hood

Ft. Hood Co: Bell TX 76544

Status: Unutilized

Reason: admin use

Bldgs. 4229, 4230, 4231

Property Number: 21200220140

Fort Hood

Ft. Hood Co: Bell TX 76544

Status: Unutilized

Reason: admin use

Bldgs. 4244, 4246

Property Number: 21200220141

Fort Hood

Ft. Hood Co: Bell TX 76544

Status: Unutilized

Reason: admin use

Bldgs. 4260, 4261, 4262

Property Number: 21200220142

Fort Hood

Ft. Hood Co: Bell TX 76544

Status: Unutilized

Reason: admin use

Bldg. 04335

Property Number: 21200440090

Fort Hood

Bell TX 76544

Status: Excess

Reason: occupied

Bldg. 04465

Property Number: 21200440094

Fort Hood

Bell TX 76544

Status: Excess

Reason: occupied

Bldg. 04468

Property Number: 21200440096

Fort Hood

Bell TX 76544

Status: Excess

Reason: occupied

Bldgs. 04475-04476

Property Number: 21200440098

Fort Hood

Bell TX 76544

Status: Excess

Reason: occupied

Bldg. 04477

Property Number: 21200440099

Fort Hood

Bell TX 76544

Status: Excess

Reason: occupied

Bldg. 07002

Property Number: 21200440100

Fort Hood

Bell TX 76544

Status: Excess

Reason: occupied

Bldg. 57001 Property Number: 21200440105

Fort Hood

Bell TX 76544

Status: Excess

Reason: occupied

Bldgs. 125, 126

Property Number: 21200620075

Fort Hood

Bell TX 76544

Status: Excess

Reason: occupied

Bldg. 190

Property Number: 21200620076

Fort Hood

Bell TX 76544

Status: Excess

Reason: occupied

Bldg. 02240

Property Number: 21200620078

Fort Hood

Bell TX 76544

Status: Excess

Reason: occupied

Bldg. 04164

Property Number: 21200620079

Fort Hood

Bell TX 76544

Status: Excess

Reason: occupied

Bldgs. 04218, 04228

Property Number: 21200620080

Fort Hood

Bell TX 76544

Status: Excess

Reason: occupied

Bldg. 04272

Property Number: 21200620081

Fort Hood

Bell TX 76544

Status: Excess

Reason: not occupied

Bldg. 04415

Property Number: 21200620083

Fort Hood

Bell TX 76544

Status: Excess

Reason: occupied

4 Bldgs

Property Number: 21200620084

Fort Hood

04419, 04420, 04421, 04424

Bell TX 76544

Status: Excess

Reason: occupied

4 Bldgs.

Property Number: 21200620085

Fort Hood

04425, 04426, 04427, 04429

Bell TX 76544

Status: Excess

Reason: occupied

Bldg. 04430

Property Number: 21200620087

Fort Hood

Bell TX 76544

Status: Excess

Reason: occupied

Bldg. 04434

Property Number: 21200620088

Fort Hood

Bell TX 76544

Status: Excess

Reason: occupied

Bldg. 04439

Property Number: 21200620089

Fort Hood

Bell TX 76544

Status: Excess

Reason: occupied

Bldgs. 04470, 04471

Property Number: 21200620090

Fort Hood

Bell TX 76544

Status: Excess

Reason: occupied

Bldg. 04493

Property Number: 21200620091

Fort Hood

Bell TX 76544

Status: Excess

Reason: occupied

Bldg. 04494

Property Number: 21200620092

Fort Hood

Bell TX 76544

Status: Excess

Reason: occupied

Bldg. 04632

Property Number: 21200620093

Fort Hood

Bell TX 76544

Status: Excess

Reason: occupied

Bldg. 04640

Property Number: 21200620094

Fort Hood

Bell TX 76544

Status: Excess

Reason: occupied

Bldg. 04645

Property Number: 21200620095

Fort Hood

Bell TX 76544

Status: Excess

Reason: occupied

Bldg. 04906

Property Number: 21200620096

Fort Hood

Bell TX 76544

Status: Excess

Reason: occupied

Bldg. 20121

Property Number: 21200620097

Fort Hood

Bell TX 76544

Status: Excess

Reason: occupied

Bldg. 91052

Property Number: 21200620101

Fort Hood

Bell TX 76544

Status: Excess

Reason: occupied

Bldg. 1345

Property Number: 21200740070

Fort Hood

Bell TX 76544

Status: Excess

Reason: utilized

Bldgs. 1348, 1941

Property Number: 21200740071

Fort Hood

Bell TX 76544

Status: Excess

Reason: utilized

Bldg. 1919

Property Number: 21200740072

Fort Hood

Bell TX 76544

Status: Excess

Reason: utilized

Bldg. 1943

Property Number: 21200740073

Fort Hood

Bell TX 76544

Status: Excess

Reason: utilized

Bldg. 1946

Property Number: 21200740074

Fort Hood

Bell TX 76544

Status: Excess

Reason: utilized

Bldg. 4205

Property Number: 21200740075

Fort Hood

Bell TX 76544

Status: Excess

Reason: utilized

Bldg. 4207

Property Number: 21200740076

Fort Hood

Bell TX 76544

Status: Excess

Reason: utilized

Bldg. 4208

Property Number: 21200740077

Fort Hood

Bell TX 76544

Status: Excess

Reason: utilized

Bldgs. 4210, 4211, 4216

Property Number: 21200740078

Fort Hood

Bell TX 76544

Status: Excess

Reason: utilized

Bldg. 4219A

Property Number: 21200740079

Fort Hood

Bell TX 76544

Status: Excess

Reason: utilized

Bldg. 04252

Property Number: 21200740081

Fort Hood

Bell TX 76544

Status: Excess

Reason: utilized

Bldg. 4255

Property Number: 21200740082

Fort Hood

Bell TX 76544

Status: Excess

Reason: utilized

Bldg. 04480

Property Number: 21200740083

Fort Hood

Bell TX 76544

Status: Excess

Reason: utilized

Bldg. 04485

Property Number: 21200740084

Fort Hood

Bell TX 76544

Status: Excess

Reason: utilized

Bldgs. 04487, 04488

Property Number: 21200740085

Fort Hood

Bell TX 76544

Status: Excess

Reason: utilized

Bldg. 04489

Property Number: 21200740086

Fort Hood

Ft. Hood TX 76544

Status: Excess

Reason: utilized

Bldgs. 4491, 4492

Property Number: 21200740087

Fort Hood

Bell TX 76544

Status: Excess

Reason: utilized

Bldgs. 04902, 04905

Property Number: 21200740088

Fort Hood

Bell TX 76544

Status: Excess

Reason: utilized

Bldgs. 04914, 04915, 04916

Property Number: 21200740089

Fort Hood

Bell TX 76544

Status: Excess

Reason: utilized

Bldg. 20102

Property Number: 21200740091

Fort Hood

Bell TX 76544

Status: Excess

Reason: utilized

Bldg. 20118

Property Number: 21200740092

Fort Hood

Bell TX 76544

Status: Excess

Reason: utilized

Bldg. 29027

Property Number: 21200740093

Fort Hood

Bell TX 76544

Status: Excess

Reason: utilized

Bldg. 56017

Property Number: 21200740094

Fort Hood

Bell TX 76544

Status: Excess

Reason: utilized

Bldg. 56202

Property Number: 21200740095

Fort Hood

Bell TX 76544

Status: Excess

Reason: utilized

Bldg. 56224

Property Number: 21200740096

Fort Hood

Bell TX 76544

Status: Excess

Reason: utilized

Bldg. 56305

Property Number: 21200740097

Fort Hood

Bell TX 76544

Status: Excess

Reason: utilized

Bldg. 56311

Property Number: 21200740098

Fort Hood

Bell TX 76544

Status: Excess

Reason: utilized

Bldg. 56327

Property Number: 21200740099

Fort Hood

Bell TX 76544

Status: Excess

Reason: utilized

Bldg. 56329

Property Number: 21200740100

Fort Hood

Bell TX 76544

Status: Excess

Reason: utilized

9 Bldgs.

Property Number: 21200740101

Fort Hood

Bell TX 76544

Status: Excess

Reason: utilized

Bldg. 92043

Property Number: 21200740102

Fort Hood

Bell TX 76544

Status: Excess

Reason: utilized

Bldg. 92072

Property Number: 21200740103

Fort Hood

Bell TX 76544

Status: Excess

Reason: utilized

Bldg. 92083

Property Number: 21200740104

Fort Hood

Bell TX 76544

Status: Excess

Reason: utilized

Bldgs. 04213, 04227

Property Number: 21200740189

Fort Hood

Bell TX 76544

Status: Excess

Reason: utilized

Bldg.4404

Property Number: 21200740190

Fort Hood

Bell TX 76544

Status: Excess

Reason: utilized

Bldg. 56607

Property Number: 21200740191

Fort Hood

Bell TX 76544

Status: Excess

Reason: utilized

Bldg. 91041

Property Number: 21200740192

Fort Hood

Bell TX 76544

Status: Excess

Reason: utilized

5 Bldgs.

Property Number: 21200740193

Fort Hood

93010, 93011, 93012, 93014

Bell TX 76544

Status: Excess

Reason: utilized

Bldg. 94031

Property Number: 21200740194

Fort Hood

Bell TX 76544

Status: Excess

Reason: utilized

GSA

Land

Cottonwood Bay

Property Number: 54201010004

14th St/Skyline Rd.

Grand Prairie TX

Status: Surplus

GSA Number: 7-N-TX-846

Reason: expression of interest

FAA Outermarker—Houston

Property Number: 54201040001

Spring TX 77373

Status: Surplus

GSA Number: 7-U-TX-1110

Reason: expression of Interest

Utah

Processing and Disposal Site

Property Number: 54201030008

Monticello UT 84535

Status: Surplus

GSA Number: 7-B-UT-431-AO

Reason: expression of interest

Virginia

Army

Building

Bldg. T2827

Property Number: 21200320172

Fort Pickett

Blackstone Co: Nottoway VA 23824

Status: Unutilized

Reason: occupied

Bldg. T2841

Property Number: 21200320173

Fort Pickett

Blackstone Co: Nottoway VA 23824

Status: Unutilized

Reason: occupied

Bldg. 01014

Property Number: 21200720067

Fort Story

Ft. Story VA 23459

Status: Unutilized

Reason: occupied

Bldg. 01063

Property Number: 21200720072

Fort Story

Ft. Story VA 23459

Status: Unutilized

Reason: occupied

Bldg. 00215

Property Number: 21200720073

Fort Eustis

Ft. Eustis VA 23604

Status: Unutilized

Reason: occupied

4 Bldgs.

Property Number: 21200720074

Fort Eustis

01514, 01523, 01528, 01529

Ft. Eustis VA 23604

Status: Unutilized

Reason: occupied

4 Bldgs.

Property Number: 21200720075

Fort Eustis

01534, 01542, 01549, 01557

Ft. Eustis VA 23604

Status: Unutilized

Reason: occupied

Bldgs. 01707, 01719

Property Number: 21200720077

Fort Eustis

Ft. Eustis VA 23604

Status: Unutilized

Reason: occupied

Bldg. 01720

Property Number: 21200720078

Fort Eustis

Ft. Eustis VA 23604

Status: Unutilized

Reason: occupied

Bldgs. 01721, 01725

Property Number: 21200720079

Fort Eustis

Ft. Eustis VA 23604

Status: Unutilized

Reason: occupied

Bldgs. 01726, 01735, 01736

Property Number: 21200720080

Fort Eustis

Ft. Eustis VA 23604

Status: Unutilized

Reason: occupied

Bldgs. 01734, 01745, 01747

Property Number: 21200720081

Fort Eustis

Ft. Eustis VA 23604

Status: Unutilized

Reason: occupied

Bldg. 01741

Property Number: 21200720082

Fort Eustis

Ft. Eustis VA 23604

Status: Unutilized

Reason: occupied

Bldg. 02720

Property Number: 21200720083

Fort Eustis

Ft. Eustis VA 23604

Status: Unutilized

Reason: occupied

GSA

Sewell's Point Substation

Property Number: 54201030009

Hampton Blvd.

Norfolk VA 23505

Status: Excess

GSA Number: 4-N-VA-0753

Reason: conveyence pending

Washington

Air Force

Bldg. 404/Geiger Heights

Property Number: 18200420002

Fairchild AFB

Spokane WA 99224

Status: Unutilized

Reason: mission effort

11 Bldgs./Geiger Heights

Property Number: 18200420003

Fairchild AFB

Spokane WA 99224

Status: Unutilized

Reason: mission effort

Bldg. 297/Geiger Heights

Property Number: 18200420004

Fairchild AFB

Spokane WA 99224

Status: Unutilized

Reason: mission effort

9 Bldgs./Geiger Heights

Property Number: 18200420005

Fairchild AFB

Spokane WA 99224

Status: Unutilized

Reason: mission effort

22 Bldgs./Geiger Heights

Property Number: 18200420006

Fairchild AFB

Spokane WA 99224

Status: Unutilized

Reason: mission effort

51 Bldgs./Geiger Heights

Property Number: 18200420007

Fairchild AFB

Spokane WA 99224

Status: Unutilized

Reason: mission effort

Bldg. 402/Geiger Heights

Property Number: 18200420008

Fairchild AFB

Spokane WA 99224

Status: Unutilized

Reason: mission effort

5 Bldgs./Geiger Heights

Property Number: 18200420009

Fairchild AFB

222, 224, 271, 295, 260

Spokane WA 99224

Status: Unutilized

Reason: mission effort

5 Bldgs./Geiger Heights

Property Number: 18200420010

Fairchild AFB

102, 183, 118, 136, 113

Spokane WA 99224

Status: Unutilized

Reason: mission effort

Army

Bldg. 05904

Property Number: 21200240092

Fort Lewis

Ft. Lewis Co: Pierce WA 98433-9500

Status: Excess

Reason: mission use

GSA

Fox Island Naval Lab

Property Number: 54201020012

630 3rd Ave.

Fox Island Co: Pierce WA 98333

Status: Surplus

GSA Number: 9-D-WA-1245

Reason: advertised for sale

West Virginia

Naval Reserve Center

Property Number: 54200930014

841 Jackson Ave.

Huntington WV 25704

Status: Excess

GSA Number: 4-N-WV-0555

Reason: expression of interest

Harley O. Staggers Bldg.

Property Number: 54201020013

75 High St.

Morgantown WV 26505

Status: Excess

GSA Number: 4-G-WV-0557

Reason: expression of interest

Wisconsin

VA

Bldg. 8

Property Number: 97199010056

VA Medical Center

County Highway E

Tomah Co: Monroe WI 54660

Status: Underutilized

Reason: unsafe conditions

[FR Doc. 2011-2785 Filed 2-11-11; 8:45 am]

BILLING CODE 4210-67-P